DEPARTMENT OF COMMERCE

International Trade Administration, Commerce

Export Trade Certificate of Review

ACTION: Notice of issuance of an amended Export Trade Certificate of Review, Application No. 88-4A012.

SUMMARY: The Department of Commerce has issued an amendment to the Export Trade Certificate of Review granted to The National Tooling and Machining Association (“NTMA”) on April 5, 2001. Notice of issuance of the original Certificate was published in the Federal Register on October 25, 1988 (53 FR 43140).

FOR FURTHER INFORMATION CONTACT: Vanessa M. Bachman, Acting Director, Office of Export Trading Company Affairs, International Trade Administration, (202) 482-5131. This is not a toll-free number.

SUPPLEMENTARY INFORMATION: Title III of the Export Trading Company Act of 1982 (15 U.S.C. 4001-21) authorizes the Secretary of Commerce to issue Export Trade Certificates of Review. The regulations implementing Title III are found at 15 CFR part 325 (2000).

The Office of Export Trading Company Affairs (“OETCA”) is issuing this notice pursuant to 15 CFR 325.6(b), which requires the Department of Commerce to publish a summary of a Certificate in the Federal Register. Under Section 305(a) of the Act and 15 CFR 325.11(a), any person aggrieved by the Secretary's determination may, within 30 days of the date of this notice, bring an action in any appropriate district court of the United States to set aside the determination on the ground that the determination is erroneous.

Description of Amended Certificate:

Export Trade Certificate of Review No. 88-00012, was originally issued to NTMA on October 18, 1988 (53 FR 43140, October 25, 1988).

NTMA's Export Trade Certificate of Review has been amended so that the attached list will constitute the “Members” of the Certificate within the meaning of section 325.2(1) of the Regulations (15 CFR 325.2(1)).

Effective Date: December 5, 2000.
Dated: April 23, 2001.
Vanessa M. Bachman,
Acting Director, Office of Export Trading Company Affairs.

BILLING CODE 3510-D-R-F

NTMA Certificate Member List Application 88-4A012
Name | Location
A & A Industries, Inc | Peabody, MA.
A & A Machine Company, Inc | Southampton, PA.
A & A Machine Shop, Inc | La Marque, TX.
A & B Machine | Van Nuys, CA.
A & B Machine Shop | Rockford, IL.
A & B Tool & Manufacturing Corp | Toledo, OH.
A & D Precision | Fremont, CA.
A & E Custom Manufacturing | Kansas City, KS.
A & E Machine Shop, Inc | Lone Star, TX.
A & G Machine, Inc | Auburn, WA.
A & S Tool & Die Company, Inc | Kernersville, NC.
A A Precisioneering, Inc | Meadville, PA.
A B A Division | Manchester, CT.
A B C 0 Tool & Engineering | Phoenix, AZ.
A B Heller, Inc | Milford, MI.
A B N Industrial Co., Inc | Buena Park, CA.
A B R Enterprises Inc | South Pasadena, CA.
A. C. Cut-Off, Inc | Azusa, CA.
A C Machine, Inc | Akron, OH.
A E Machine Works, Inc | Houston, TX.
A F C Tool Company, Inc | Dayton, OH.
A I M Tool & Die | Grand Haven, MI.
AMA Plastics | Corona, CA.
A M C Precision, Inc | N. Tonawanda, NY.
A M Design | E. Canton, OH.
A M Machine Company, Inc | Baltimore, MD.
A Mfg | Grand Terrace, CA.
APEC, LLC | Hingham, MA.
A S C Corporation Owings | Mills, MD.
ATC Distribution Group | Louisville, KY.
A+ Engineering | Ipswich, MA.
A-G Tool & Die | Miamitown, OH.
A-Line Tool & Die, Inc | Louisville, KY.
A-RanD, Inc | Phoenix, AZ.
ABBEC Manufacturing | Rochester, NY.
Abbott Machine & Tool, Inc | Toledo, OH.
Abbott Tool, Inc | Toledo, OH.
Ability Tool Company | Rockford, IL.
Able Wire EDM, Inc | Brea, CA.
Abrams Airborne Manufacturing | Tucson, AZ.
Absolute Manufacturing | N. Chelmsford, MA.
Acadiana Hydraulic Works, Inc | New Iberia, LA.
Accu Die & Mold Inc | Stevensville, MI.
Accu-Roll, Inc | Rochester, NY.
Harrison Enterprise, Inc | Phoenix, AZ.
AccuCraft | New Haven, MO.
Accudynamics, Inc | Middleboro, MA.
Accudyne Aerospace & Defense | Palm Bay, FL.
Accura Industries, Inc | Rochester, NY.
Accurate Grinding Corp | Warwick, RI.
Accurate Grinding & Mfg. Corp | Los Angeles, CA.
Accurate Machining | Mukilteo, WA.
Accurate Manufacturing Company | Glendale, CA.
Accurate Manufacturing Company | Alsip, IL.
Accurate Products Co | Tucson, AZ.
Accurite Machine & Mfg. Inc | Louisville, KY.
Accutronics, Inc | Littleton, CO.
Ace Manufacturing Company | Cincinnati, OH.
Ace Specialty Company, Inc | Tonawanda, NY.
Ackley Machine Corporation | Moorestown, NJ.
Acme Brass & Machine Works, Inc | Kansas City, MO.
ACMT, Inc dba A C Tool & Machine | Louisville, KY.
Acraloc Corporation | Oak Ridge, TN.
Acro Industries, Inc | Rochester, NY.
Acro Tool & Die Company, Inc | Akron, OH.
Actco Tool & Mfg. Co | Meadville, PA.
Action Die & Tool Inc | Wyoming, MI.
Action Mold & Machining, Inc | Grand Rapids, MI.
Action Precision Grinding Inc | North Tonawanda, NY.
Action SuperAbrasive Products | Brimfield, OH.
Action Tool & Die Inc | Rockford, IL.
Active Tool Company | Meadville, PA.
Acucut, Inc | Southington, CT.
Acutec Precision Machining Inc | Saegertown, PA.
Ada Machine Company, Inc | Santa Clara, CA.
Adams Engineering, Division of | South Bend, IN.
Adaptive Technologies Inc | Springboro, OH.
Addison Precision Mfg. Corp | Rochester, NY.
Adena Tool Corporation | Dayton, OH.
Admill Machine Company | Newington, CT.
Adron Tool Corporation | Menomonee Falls, WI.
Advance Gear & Machine Corp | Gardena, CA.
Advance Manufacturing Corp | Cleveland, OH.
Advance Manufacturing Technology | Salt Lake City, UT.
Advanced Ceramic Technology | Orange, CA.
Advanced Composite Products | Huntington Beach, CA.
Advanced Cutting Tools, Inc | Clio, MI.
Advanced Machine & Eng. Co | Rockford, IL.
Advanced Machine Programming | Morgan Hill, CA.
Advanced Machining Corporation | Salisbury, NC.
Advanced Measurement Labs, Inc | Sun Valley, CA.
Advanced Mold & Tooling Inc | Rochester, NY.
Advanced Tooling Systems, Inc | Comstock Park, MI.
Advantage Mold & Design | Meadville, PA.
Aero Comm Machining | Wichita, KS.
Aero Design & Manufacturing Co | Phoenix, AZ.
Aero Engineering & Mfg. Company | Valencia, CA.
Aero Gear, Inc | Windsor, CT.
Aero Machining Company | Garden Grove, CA.
Aero Mechanical Engineering, Inc | Huntington Beach, CA.
Aero-Tech Engineering, Inc | Wichita, KS.
Aerofab, Inc | Tucson, AZ.
Aerostar Aerospace Inc | Phoenix, AZ.
Aetna Machine Company | Cochranton, PA.
Aggressive Tool & Die, Inc | Buckner, KY.
Agrimson Tool Company | Brooklyn Park, MN.
Ahaus Tool & Engineering, Inc | Richmond, IN.
Aimco Precision, Inc | Phoenix, AZ.
Airfoil Technology, Inc | Gilbert, AZ.
Airmetal Corporation | Jackson, MI.
Ajax Tool, Inc | Fort Wayne, IN.
Akro Tool Co., Inc | Cincinnati, OH.
Akron Steel Fabricators Company | Akron, OH.
Akron Tool & Die Company, Inc | Akron, OH.
Alamance Machine Company, Inc | Burlington, NC.
Alart Tool & Die, Inc | Houston, TX.
Albertson & Hem, Inc | Wichita, KS.
Albion Machine & Tool Company | Albion, MI.
Alco Manufacturing, Inc | Santa Ana, CA.
Alfred Manufacturing Company | Denver, CO.
Alfro Custom Manufacturing | Waterbury, CT.
Alger Machine Company, Inc | Rochester, NY.
Alignment Engineering Co., Inc | Knoxville, TN.
ALKAB Contract Manufacturing, Inc | New Kensington, PA.
All Five Tool Company, Inc | Bristol, CT.
All Tool Company | Union, NJ.
All Tools Company | Oklahoma City, OK.
All Tools Texas, Inc | Houston, TX.
All Weld Machine | Milpitas, CA.
All-Tech Machine & Eng., Inc | San Jose, CA.
All-Tech Machining, Inc | Wilmer, AL.
Allen Aircraft Products, Inc | Ravenna, OH.
Allen Precision Industries, Inc | Asheboro, NC.
Allen Precision Machining Co | Angleton, TX.
Allen Randall Enterprises, Inc | Akron, OH.
Alliance Machine Tool Co., Inc | Louisville, KY.
Allied Mechanical Products | Ontario, CA.
Allied Screw Products, Inc | Mishawaka, IN.
Allied Tool & Die Company, LLC | Phoenix, AZ.
Allied Tool & Die, Inc | Cleveland, OH.
Allied Tool & Machine, Inc | Saginaw, MI.
Allied Tool & Machine Company | Kernersville, NC.
Allied Tools of Texas | Houston, TX.
Alloy Metal Products | Hayward, CA.
Allstate Tool & Die, Inc | Rochester, NY.
Almar Mfg. & Engineering, Inc | Garden Valley, CA.
Alpha Mold Inc., LLC | Huber Heights, OH.
Alpha Mold West Inc | Broomfield, CO.
Alpha Precision Machining Inc | Kent, WA.
Alpha Tool & Machine Company | Bellmawr, NJ.
Alpha Tooling, Inc | Santa Fe Springs, CA.
Alpine Precision, Inc | North Billerica, MA.
Alro Specialty Metals | St. Louis, MO.
Alt's Tool & Machine, Inc | Santee, CA.
Alton Products, Inc | Maumee, OH.
Alves Precision Engineered | Watertown, CT.
Amatrol, Inc | Jeffersonville, IN.
Ambel Precision Mfg. Corp | Bethel, CT.
Ambox, Inc | Houston, TX.
American Machine & Gundrilling, Co | Maple Grove, MN.
American Metal Masters, Inc | Plantsville, CT.
American Mfg. & Machining, Inc | Racine, WI.
American Mold & Engineering Co | Fridley, MN.
American Precision Machining | Phoenix, AZ.
American Precision Technologies | San Fernando, CA.
American Tool & Die, Inc | Toledo, OH.
American Wire EDM, Inc | Orange, CA.
Amerimold, Inc | Mogadore, OH.
Ameritech Die & Mold, Inc | Mooresville, NC.
Amity Mold Company | Tipp City, OH.
Ampswiss Engineering | Fremont, CA.
Anchor Lamina Inc | Madison Heights, MI.
Anchor Tool & Die Company | Cleveland, OH.
Anchor Tool & Die Company | Warren, MI.
Anders Machine and Engraving | Rochester, NY.
Anderson Tool & Engineering Co | Anderson, IN.
Andrew Tool Company, Inc | Plymouth, MN.
Anglo-American Mold, Inc | Louisville, KY.
Angus LLC | Indianapolis, IN.
Anmar Precision Components Inc | North Hollywood, CA.
Anoplate Corporation | Syracuse, NY.
Apex Precision Technologies, Inc | Camby, IN.
Apex Machine Company | Ft. Lauderdale, FL.
Apex Manufacturing, Inc | Phoenix, AZ.
Apex Tool & Manufacturing, Inc | Evansville, IN.
Apollo E.D.M. Company | Fraser, MI.
Apollo Precision, Inc | Plymouth, MN.
Apollo Products Inc | Willoughby, OH.
Applegate EDM, Inc | Dallas, TX.
Applied Engineering, Inc | Yankton, SD.
Applied Technology Manufacturing | Rochester, NY.
Aram Precision Tool & Die, Inc | Chatsworth, CA.
Arc Drilling Inc | Garfield Heights, OH.
Arca Systems | Tacoma, WA.
Arco Industries, Inc | Dayton, OH.
Arco Metals Corporation | Baltimore, MD.
Ardekin Machine Company | Rockford, IL.
Area Tool & Manufacturing, Inc | Meadville, PA.
Aremco, Inc | Grand Rapids, MN.
Argo Tool Corporation | Twinsburg, OH.
Argus Machine, Inc | Tucson, AZ.
Aries Tool, Inc | New Berlin, WI.
Arkansas Tool & Die, Inc | North Little Rock, AR.
Arken Manufacturing, Inc | Cleveland, OH.
Arlington Machine & Tool Company | Fairfield, NJ.
Arma Tool & Die Company, Inc | Ridgefield, CT.
Armin Tool & Manufacturing Co | South Elgin, IL.
Armstrong-Blum Mfg. Co | Mt. Prospect, IL.
Armstrong Machine Works, Inc | Rogersville, TN.
Armstrong Mold, Machining Div | East Syracuse, NY.
Armstrong Technology, Inc | Sunnyvale, CA.
Arnett Tool, Inc | New Paris, OH.
Arrington Supply House, Inc | Tuscaloosa, AL.
Arro Tool & Die, Inc | Lakewood, NY.
Arrow Diversified Tooling, Inc | Ellington, CT.
Arrow Grinding, Inc | Tonawanda, NY.
Arrowsmith International, Inc | Southfield, MI.
Artisan Machining, Inc | Bohemia, NY.
Ascension Industries | North Tonawanda, NY.
Ash Machine Corporation | Pataskala, OH.
Aspen Precision Technologies | Petaluma, CA.
Associated Electro-Mechanics | Springfield, MA.
Associated Gear, Inc | Santa Fe Springs, CA.
Associated Technologies | Brea, CA.
Associated Toolmakers, Inc | Keokuk, IA.
Associates Commercial Corp | Irving, TX.
Astley Precision Machine Co | Irwin, PA.
Astro Automation, Inc | Irwin, PA.
Astro Machine Works Inc | Ephrata, PA.
Astrotronics Inc | Mesa, AZ.
AT Engineering & Mfg., Inc | Chatsworth, CA.
Atec Engineering | Phoenix, AZ.
Atec Tool & Engineering, Inc | Santa Clara, CA.
Athens Industries | Southington, CT.
Atkins Tool Company | Riverton, NJ.
Atlantic Alloys, Inc | Bristol, RI.
Atlantic Precision Products Inc | Biddeford, ME.
Atlantic Tool & Die Company | Strongsville, OH.
Atlas Die & Manufacturing Co | Rockford, IL.
Atlas Machine & Supply, Inc | Louisville, KY.
Atlas Tool, Inc | Roseville, MI.
August Machine, Inc | Phoenix, AZ.
Austin Machine Company Inc | O'Fallon, MO.
Austinburg Machine, Inc | Austinburg, OH.
Austro Mold Incorporated | Rochester, NY.
Autocam Corporation | Kentwood, MI.
Automated Cells & Equipment, Inc | Painted Post, NY.
Automated EDM Incorporated | Ramsey, MN.
Automatic Stamp Products, Inc | Cleveland, OH.
Automation Tool & Die, Inc | Brunswick, OH.
Automation Tool Company | Cookeville, TN.
Axian Technology | Phoenix, AZ.
Axis Mfg. Inc | Tempe, AZ.
Ay Machine Company | Ephrata, PA.
Ay-Mac Precision, Inc | Yorba Linda, CA.
Azbill Tool & Die, Inc | Huntington Beach, CA.
B & A Design Inc | Vernon, CT.
B & B Machine & Grinding Service | Denver, CO.
B & B Manufacturing Company | Largo, FL.
B & B Precision Mfg., Inc | Avon, NY.
B & B Tool Company, Inc | Rockford, IL.
B & E Tool Company, Inc | Southwick, MA.
B & G Quality Machine & Tool | Baltimore, MD.
B & H Fabricators, Inc | Wilmington, CA.
B & H Tool Co. Inc | San Marcos, CA.
B & H Tool Works, Inc | Richmond, KY.
B & K Engineering, Inc | Mountain View, CA.
B & L Tool and Machine Company | Plainville, CT.
B & M Machine Corporation of Racine | Racine, WI.
B & R Mold, Inc | Simi Valley, CA.
B C D Metal Products Inc | Malden, MA.
B J Williams Machining Co | Edinboro, PA.
BMCO Industries Inc | Cranston, RI.
B P I Corporation | Santa Clara, CA.
BT Laser, Inc | Santa Clara, CA.
B-W Grinding Service, Inc | Houston, TX.
Babbitt Bearing, Inc | Syracuse, NY.
Bachman Machine Company, Inc | St. Louis, MO.
Bachmann Precision Machine | South El Monte, CA.
Badge Machine Products, Inc | Canandaigua, NY.
Baham & Sons Machine Works, Inc | Houston, TX.
Bahrs Die & Stamping Company | Cincinnati, OH.
Baker Hill Industries, Inc | Coral Springs, FL.
Banner Machine Inc | Phoenix, AZ.
Banner Tool & Die, Inc | Rockford, IL.
Barberie Mold | Gardena, CA.
Barile Precision Grinding Inc | Cleveland, OH.
Basic VI | San Jose, CA.
Bass Machining Inc | Baltimore, MD.
Bateman Manufacturing Co., Inc | Hayward, CA.
The Baughman Group | Louisville, KY.
Baumann Engineering | Claremont, CA.
Bawden Industries, Inc | Romulus, MI.
Baxter Machine Products, Inc | Huntingdon, PA.
Bay Industrial Machine | Green Bay, WI.
Bayport Machine, Inc | La Porte, TX.
Beach Mold & Tool, Inc | New Albany, IN.
Beacon Tool Company, Inc | Whittier, CA.
Beaver Fab Inc | Cedar Hill, TX.
Beaver Tool & Machine Company, Inc | Feasterville, PA.
The Bechdon Company, Inc | Upper Marlboro, MD.
Bechier Cams, Inc | Anaheim, CA.
Becker, Inc | Kenosha, WI.
Becksted Machine, Inc | Tucson, AZ.
Bedard Machine, Inc | Brea, CA.
Bel-Kur, Inc | Temperance, MI.
Belco Tool & Mfg. Inc | Meadville, PA.
Belgian Screw Machine Products | Jackson, MI.
Bell Engineering, Inc | Saginaw, MI.
Beilco Precision Manufacturing | McKinney, TX.
Beloit Precision Die Co. Inc | Beloit, WI.
Benda Tool & Model Works | Hercules, CA.
Bendon Gear Machine | Rockland, MA.
Bennett Tool & Machine | Fremont, CA.
Bennett Tool & Die Company | Nashville, TN.
Benning Inc | Blame, MN.
Bent River Machine Inc | Clarkdale, AZ.
Berman Tool & Die | Waldorf, MD.
Bermar Associates, Inc | Troy, MI.
Bertram Tool & Machine Co., Inc | Farrell, PA.
Best Tool & Manufacturing Co | Kansas City, MO.
Best Way Stamping Inc | La Mirada, CA.
Bestway Industries, Inc | Cleveland, OH.
Beta Machine Co. Inc | Cleveland, OH.
Beta Tool & Mold/Dyna-Tech | Wadsworth, OH.
Bilar Tool & Die Corporation | Warren, MI.
Billet Industries, Inc | York, PA.
Bishop Steering Technology, Inc | Indianapolis, IN.
Blackburn Melton Mfg. Company | Houston, TX.
Blackwood Grinding Inc | Hurst, TX.
Blandford Machine & Tool Co | Louisville, KY.
Blue Chip Mold, Inc | Rochester, NY.
Blue Chip Tool Company, Inc | New Castle, PA.
Bluegrass Forging, Tool & Die | Shelbyville, KY.
Bob's Tool & Cutter Grinding | Indianapolis, IN.
Boice Industrial Corporation | Ruffsdale, PA.
Boittech Inc | West Newton, PA.
Boring, Inc | Rockford, IL.
Bosma Machine & Tool | Tipp City, OH.
Boston Centerless Inc | Woburn, MA.
Bowden Manufacturing Corp | Willoughby, OH.
Boyce Machine, Inc | Cuyahoga Falls, OH.
Boyle, Inc | Freeport, PA.
Bra-Vor Tool & Die Company, Inc | Meadville, PA.
Bradford Machine Company Inc | Brattleboro, VT.
Bradhart Products, Inc | Brighton, MI.
Bramko Tool & Engineering, Inc | O' Fallon, MO.
Brimar Products Inc | Fontana, CA.
Brinkman Tool & Die, Inc | Dayton, OH.
Bristol Instrument Gears, Inc | Forestville, CT.
Britt Tool Inc | Brazil, IN.
Brittain Machine, Inc | Wichita, KS.
Broadway Companies, Inc | Englewood, OH.
Brogdon Tool & Die, Inc | Blue Springs, MO.
Brookfield Machine, Inc | West Brookfield, MA.
Brooklyn Machine & Mfg. Co. Inc | Cuyahoga Heights, OH.
Brooklyn Scraping & Re-Machining | W. Lafayette, IN.
Brown-Covey, Inc | Kansas City, MO.
Brownstown Quality Tool & Design | Brownstown, IN.
The Budd Company | Shelbyville, KY.
Budney Overhaul & Repair, LTD | Berlin, CT.
Buerk Tool & Machine Corporation | Buffalo, NY.
Buiter Tool & Die, Inc | Grand Rapids, MI.
Bundy Manufacturing Inc | El Segundo, CA.
Burckhardt America, Inc | Greensboro, NC.
Burco Precision Products, Inc | Denton, TX.
Burger Engineering, Inc | Olathe, KS.
Burgess Brothers, Inc | Canton, MA.
Burkland Textron Inc | Goodrich, MI.
Burton Industries Inc | Mentor, OH.
C + H Manufacturing Inc | Ontario, CA.
C & C Machine Company | Akron, OH.
C & C Manufacturing Corporation | Englewood, CO.
C & G Machine & Tool Co., Inc | Granby, MA.
C & J Industries Inc | Meadville, PA.
C & M Machine Products, Inc | Willoughby, OH.
C & R Manufacturing, Inc | Shawnee, KS.
C & S Machine & Manufacturing | Louisville, KY.
C A R Engineering & Mfg | Victor, NY.
C B Enterprises | Manchester, CT.
C B S Manufacturing Company, Inc | Windsor, CT.
C D M Tool & Mfg. Co., Inc | Hartford, WI.
C F A Company, Inc | Milford, CT.
CG Manufacturing Company | Willoughby, OH.
C J Winter Machine Technologies | Rochester, NY.
C K Tool | Harborcreek, PA.
C M Gordon Industries Inc | Santa Fe Springs, CA.
C M Industries, Inc | Old Saybrook, CT.
C M Smillie & Company | Ferndale, MI.
C N C Machine & Engineering | Colorado Springs, CO.
C N C Precision Machining, Inc | Comstock Park, MI.
C.N.C. Tool & Mold | Naples, FL.
C R E Enterprises, Inc | Phoenix, AZ.
C T D Machines, Inc | Los Angeles, CA.
C T M, Inc | Grand Rapids, MI.
C V Tool Company, Inc | Southington, CT.
C. G. Tech, Inc | Phoenix, AZ.
C-P Mfg. Corp. | Van Nuys, CA.
Caco Pacific Corporation | Covina, CA.
Cadco Program & Machine | St. Charles, MO.
Cal-Weld | Fremont, CA.
Calder Machine Co. (C M C) | Florence, SC.
California Mold | Fullerton, CA.
Calmax Machining, Inc | Santa Clara, CA.
Cambridge Specialty Company, Inc | Kensington, CT.
Cambridge Tool & Die Corp | Cambridge, OH.
Cameron Machine Shop, Inc | Richardson, TX.
Campbell Grinding & Machine, Inc | Lewisville, TX.
Campbell Machinery, Inc | Stow, OH.
CAMtech Precision Manufacturing | Jupiter, FL.
CamTech Systems Inc | Alhambra, CA.
Canto Tool Corporation | Meadville, PA.
Capitol Technologies, Inc | South Bend, IN.
Capitol Tool & Die, L. P | Madison, TN.
Carbi-Tech, Inc | Apollo, PA.
Carbide Probes, Inc | Dayton, OH.
Cardinal Machine Company, Inc | Strongsville, OH.
Carius Tool Co., Inc | Cleveland, OH.
Carlin Machine Company, Inc | Southborough, MA.
Carlson Capital Manufacturing Co. | Rockford, IL.
Carlson Industrial Grinding Inc | Erie, PA.
Carlson Tool & Manufacturing | Cedarburg, WI.
Cascade Mold & Die, Inc | Portland, OR.
Cass Screw Machine Products | Brooklyn Center, MN.
Castle Precision Products | Stockton, CA.
Catalina Precision Engineering, LLC | Orange, CA.
Catalina Tool & Mold, Inc | Tucson, AZ.
Cates Machine Shop, Inc | Tyler, TX.
Cee-San Machine & Fabrication | Houston, TX.
Cempi Industries Inc | Huntington Beach, CA.
Centaur Tool & Die, Inc | Bowling Green, OH.
Centennial Technologies, Inc | Saginaw, MI.
Center Line Machine Company | Lafayette, CO.
Center Line Tool | Freeport, PA.
Center Line Industries, Inc | West Springfield, MA.
Central Industrial Supply | Grand Prairie, TX.
Central Mass. Machine, Inc | Holyoke, MA.
Central States Machine Service | Elkhart, IN.
Central Tool & Machine Co., Inc | Bridgeport, CT.
Central Tool Company, Inc | Fortville, IN.
Central Tools, Inc | Cranston, RI.
Centric Machine & Instrument | Tampa, FL.
Century Die Company | Fremont, OH.
Century Mold Company, Inc | Rochester, NY.
Century Tool & Engr., Inc | Indianapolis, IN.
Certified Grinding & Machine | Rochester, NY.
Certified Industries, II, LLC | Phoenix, AZ.
Challenger Worldwide (USA), LLC | Chandler, AZ.
Chalmers & Kubeck, Inc | Aston, PA.
Chamtek Mfg., Inc | Rochester, NY.
Chandler Tool & Design Inc | Rockford, IL.
Chance Tool & Die Co., Inc | Cincinnati, OH.
Chapman Engineering, Inc | Santa Ana, CA.
Charmilles Technologies | Lincolnshire, IL.
Chase Machine & Mfg. Co | Rochester, NY.
Chelar Tool & Die, Inc | Belleville, IL.
Cherokee Industries | Hampshire, IL.
Cherry Valley Tool & Machine Inc | Belvidere, IL.
The Chesapeake Machine Co | Baltimore, MD.
Chicago Grinding & Machine Co | Melrose Park, IL.
Chicago Mold Engineering Co., Inc | St. Charles, IL.
Chickasha Manufacturing Company | Chickasha, OK.
Chippewa Tool & Manufacturing Co | Woodville, OH.
CHIPSCO, Inc | Meadville, PA.
Christie Manufacturing, Inc | Gainesville, TX.
Christopher Tool & Manufacturing | Solon, OH.
Circle-K-Industries | Sterling, VA.
City Industrial Tool & Die | Harbor City, CA.
Clarion Tech. Caledonia Tool | Caledonia, MI.
Clark & Wheeler Engineering, Inc | Cerritos, CA.
Clark-Reliance Corporation | Strongsville, OH.
Clarke Engineering, Inc | North Hollywood, CA.
Class Machine & Welding, Inc | Akron, OH.
Classic Tool | Saegertown, PA.
Classic Tool, Inc | Macedonia, OH.
Clay & Bailey Mfg. Co | Kansas City, MO.
Cleveland Electric Laboratories | Twinsburg, OH.
Clifton Automatic Screw | Lake City, PA.
Cloud Company | San Luis Obispo, CA.
Coast Cutters Company, Inc | South El Monte, CA.
Coastal Machine Company | Branford, CT.
Cobak Tool & Manufacturing Co | St. Louis, MO.
Coffey Associates | Washington, DC.
Colbrit Manufacturing Co., Inc | Chatsworth, CA.
A E Cole Die & Engraving | Columbus, OH.
Collins Instrument Company | Angleton, TX.
Collins Machine & Tool Co., Inc | Madison, TN.
Collins Machine Works, Inc | Weilford, SC.
Collins Manufacturing, Inc | Essex, MA.
Colonial Machine Company | Kent, OH.
Colonial Machine & Tool Co., Inc | Coventry, RI.
Colorado Laser Marking, Inc | Colorado Springs, CO.
Colorado Surface Grinding, Inc | Denver, CO.
Columbia Machine Works, Inc | Columbia, TN.
Columbia Products, Inc | Dallastown, PA.
Comac Manufacturing Corporation | Oroville, CA.
Comet Tool, Inc | Hopkins, MN.
Comfab, Inc | Spartanburg, SC.
Command Tooling Systems | Ramsey, MN.
Commerce Grinding, Inc | Dallas, TX.
Commonwealth Machine Co., Inc | Danville, VA.
Competition Tooling, Inc | High Point, NC.
Competitive Engineering Inc | Tucson, AZ.
Composidie, Inc | Apollo, PA.
Compu Die, Inc | Wyoming, MI.
Compumachine Incorporated | Wilmington, MA.
Computech Manufacturing Co., Inc | North Kansas City, MO.
Computerized Machining Service, | Englewood, CO.
Concept Tool & Die Company | Euclid, OH.
Conco Systems, Inc | Verona, PA.
Condor Engineering, Inc | Colorado Springs, CO.
Connecticut Jig Grinding, Inc | New Britain, CT.
Connelly Machine Works | Santa Ana, CA.
Connolly Tool & Machine Co | Dallas, TX.
Connor Formed Metal Products | Grand Prairie, TX.
Conroy & Knowlton, Inc | Los Angeles, CA.
Consolidated Mold & Mfg. Inc | Kent, OH.
Consulting-Design-Construction, Inc | Phoenix, AZ.
Conti Machine Tool Company, Inc | Haverhill, MA.
Conti Tool & Die Company | Akron, OH.
Continental Precision, Inc | Phoenix, AZ.
Continental Tool & Machine | Strongsville, OH.
Continental Tool & Manufacturing | Lenexa, KS.
Contour Metrological & Mfg., Inc | Troy, MI.
Converse Industries Inc | Kenosha, WI.
Convex Mold, Inc | Sterling Heights, MI.
R F Cook Manufacturing Co | Stow, OH.
Cook Machine and Engineering | Gardena, CA.
Cook Specialty Company | Green Lane, PA.
Coorstek | Livermore, CA.
Corbitt Mfg. Company | St. Louis, MO.
Cornerstone Screw Machine | Burbank, CA.
Corrigan Manufacturing Co., Inc | Rockford, IL.
Corrugated Roller & Machine Inc | Santa Fe Springs, CA.
Corry Custom Machine | Corry, PA.
Corver Engineering Company, Inc | Detroit, MI.
Cosar Mold, Inc | Brimfield, OH.
Costa Machine, Inc | Akron, OH.
Country Machine & Tool, Inc | Tipp City, OH.
Covert Manufacturing, Inc | Galion, OH.
Cox Mfg. Co. Inc | San Antonio, TX.
Cox Tool Company, Inc | Excelsior Springs, MO.
Craft Tech, Inc | Carrollton, TX.
Craft-Tech Enterprises, Inc | Troy, MI.
Craig Machinery & Design, Inc | Louisville, KY.
Creative Precision, West | Phoenix, AZ.
Creb Engineering, Inc | Pascoag, RI.
Crenshaw Die & Manufacturing | Irvine, CA.
Crest Manufacturing Company | Lincoln, RI.
Criterion Tool & Die, Inc | Brook Park, OH.
Crossland Machinery | Kansas City, MO.
CrossRidge Precision | Oak Ridge, TN.
Crown Machine, Inc | Rockford, IL.
Crown Mfg. Co., Inc | Newark, CA.
Crown Mold & Machine | Streetsboro, OH.
Crown Tool & Die Co., Inc | Bridgeport, CT.
Crucible Materials Corporation | Camillus, NY.
Crush Master Grinding Corp | Walnut, CA.
Cumberland Machine Company | Nashville, TN.
Custom Engineering, Inc | Evansville, IN.
Custom Gear & Machine, Inc | Rockford, IL.
Custom Machine, Inc | Woburn, MA.
Custom Machine, Inc | Cleveland, OH.
Custom Mold & Design, Inc | New Hope, MN.
Custom Tool & Design, Inc | Erie, PA.
Custom Tool & Grinding Inc | Washington, PA.
Custom Tool & Model Corp | Frankfort, NY.
Cut-Right Tools Corporation | Willoughby, OH.
D & B Industries, Inc | Dayton, OH.
D & H Manufacturing Company | Fremont, CA.
D & J Precision Machining, Inc | Hayward, CA.
D & K Industries, Inc | Chatsworth, CA.
D & N Precision, Inc | San Jose, CA.
D & R Precision Machining | San Jose, CA.
D & S Manufacturing Corporation | Southwick, MA.
D. F. O'Brien Precision Machining | Santa Fe Springs, CA.
D K Mold & Engineering, Inc | Wyoming, MI.
D M E Company | Madison Heights, MI.
D M Machine & Tool | Kennerdell, PA.
D M Machine Company, Inc | Willoughby, OH.
D P I, Inc | Southampton, PA.
D P Tool & Machine Inc | Avon, NY.
D S A Precision Machining, Inc | Livonia, NY.
D S Greene Company, Inc | Wakefield, MA.
D S Mfg., Inc | Ventura, CA.
DT Scheu & Kniss | Louisville, KY.
D-Velco Manufacturing | Phoenix, AZ.
D-K Manufacturing Corporation | Fulton, NY.
DaCo Precision Manufacturers | Sandy, UT.
Dadeks Machine Works Corporation | Houston, TX.
Daily Industrial Tools | Costa Mesa, CA.
Dan's Precision Grinding | Sun Valley, CA.
Danco Precision, Inc | Phoenixville, PA.
Dane Systems, Inc | Stevensville, MI.
Danly IEM | Middleburg Heights, OH.
Data Mold & Tool, Inc | Walbridge, OH.
Dave Jones Machinists | Mishawaka, IN.
David Engineering & Mfg | Corona, CA.
Davis Machine & Manufacturing | Arlington, TX.
Davken Inc | Brea, CA.
Dayton Progress Corporation | West Carrollton, OH.
Dayton Reliable Tool & Mfg. Co | Dayton, OH.
De King Screw Products Inc | Burbank, CA.
De Long Manufacturing Co., Inc | Santa Clara, CA.
De-Lux Mold & Machine, Inc | Brady Lake, OH.
Dean Machine | Cranston, RI.
Dearborn Precision Tubular | Fryeburg, ME
Deck Brothers, Inc. | Buffalo, NY.
Dekalb Tool & Die, Inc | Tucker, GA.
Delco Corporation | Akron, OH.
Delco Machine & Gear | No.Long Beach, CA.
Dell Tool | Penfield, NY.
Delltronics, Inc | Englewood, CO.
Delta Machine & Tool Company | Cleveland, OH.
Delta Machining, Inc | Niles, MI.
Delta Tech, Inc | Mentor, OH.
Demaich Industries, Inc | Johnston, RI.
Dependable Machine Company, Inc | Indianapolis, IN.
Dependable Tool & Manufacturing | Cleveland, OH.
Desert Precision Mfg., Inc | Tucson, AZ.
Designs For Tomorrow, Inc | St. Louis, MO.
Detail Technologies, Inc | Grandville, MI.
Detroit Tool & Engineering Co | Lebanon, MO.
Deutsch ECD | Hemet, CA.
Devtek Engineering | Colorado Springs, CO.
Di-Matrix | Phoenix, AZ.
Dial Machine Company | Andalusia, PA.
Diamond Lake Tool, Inc | Anoka, MN.
Diamond Machine Works, Inc | Seattle, WA.
Diamond Tool & Die Co., Inc | Euclid, OH.
Diamond Tool & Engineering, Inc | Bertha, MN.
Dickey & Son Machine & Tool Co | Indianapolis, IN.
Dickson Machine & Tool, Inc | Dickson, TN.
Die Cast Die and Mold, Inc | Perrysburg, OH.
Die Dimensions | Kentwood, MI.
Die Matic Corporation | Brooklyn Heights, OH.
Die-Namic Inc | Taylor, MI.
Die Products Corporation | Minneapolis, MN.
Die Quip Corp | Bethel Park, PA.
Die Tech Industries, Ltd | Providence, RI.
The Die Works Inc | Hillsboro, MO.
Die-Matic Tool and Die, Inc | Grand Rapids, MI.
Die-Mension Corporation | Brunswick, OH.
Die-Namic Tool & Mfg., Inc | Rockford, IL.
Diemaster Tool & Mold, Inc | Macedonia, OH.
Dietooling, Div. of Diemolding | Wampsville, NY.
Digital Tool & Die, Inc | Grandville, MI.
Dimac Manufacturing Co., Inc | Alexander, AR.
Distinctive Machine Corporation | Grand Rapids, MI.
Diversified Engraving Stamp | Akron, OH.
Diversified Manufacturing | Lockport, NY.
Diversified Tool & Die | Vista, CA.
Diversified Tool, Inc | Mukwonago, WI.
Dixie Tool & Die Co., Inc | Gadsden, AL.
Dixon Automatic Tool, Inc | Rockford, IL.
Double D Machine & Tool Company | Fremont, OH.
Douglas Machine & Engineering Co | Davenport, IA.
Downey Grinding Company, Inc | Downey, CA.
Dowty's Machine Works, Inc | Baton Rouge, LA.
Doyle Manufacturing, Inc | Holland, OH.
Drabik Tool and Die, Inc | Brook Park, OH.
Drewco Corporation | Franksville, WI.
Drill Masters Inc | Hamden, CT.
Du-Well Grinding Company, Inc | Milwaukee, WI.
Dugan Tool & Die Company | Toledo, OH.
Dugan Tool & Die, Inc | Cottage Hills, IL.
Dun-Rite Fabricating, Inc | Saginaw, MI.
Dun-Rite Industries, Inc | Monroe, MI.
Dunn & Bybee Tool Company, Inc | Sparta, TN.
Duplicate Parts Company, Inc | San Marcos, CA.
Dura-Metal Products Corporation | Irwin, PA.
Durivage Pattern & Mfg. Co. Inc | Williston, OH.
DuWest Tool & Die, Inc | Cleveland, OH.
Dwyer Instruments, Inc | Grandview, MO.
DynaGrind Precision, Inc | New Kensington, PA.
Dynamic Engineering, Inc | Minneapolis, MN.
Dynamic Fabrication, Inc | Santa Ana, CA.
Dynamic Machine & Fabricating | Phoenix, AZ.
Dynamic Technologies and Design | Grand Rapids, MI.
Dynamic Tool & Design, Inc | Menomonee Falls, WI.
Dysinger Incorporated | Dayton, OH.
E & C Manufacturing Company, Inc | Toledo, OH.
E B & Sons Machine Inc | Aliquippa, PA.
E. C. M. Mold & Die, Inc | Tucson, AZ.
E C M Of Florida | Jupiter, FL.
E. D. M. Exotics, Inc | Hayward, CA.
E F Precision Inc | Willow Grove, PA.
EISC/CME | Toledo, OH.
E J Codd Co. of Baltimore City | Baltimore, MD.
E K L Machine Company, Inc | Andalusia, PA.
E-M-Solutions, Inc | Fremont, CA.
E R C Concepts Company, Inc | Sunnyvale, CA.
E. T. Tool, Inc | Racine, WI.
E W Johnson Company, Inc | Lewisville, TX.
E-Fab, Inc | Santa Clara, CA.
Eagle Mold Company, Inc | Carlisle, OH.
Eagle Technology Group | St. Joseph, MI.
Eagle Tool & Machine Company | Springfield, OH.
Eason & Wailer | Phoenix, AZ.
East Coast Tool & Mfg., Inc | Orchard Park, NY.
East Side Machine, Inc | Webster, NY.
East Texas Machine Works, Inc | Longview, TX.
Eaton Manufacturing, Inc | Fremont, CA.
Ebway Corporation | Fort Lauderdale, FL.
Eckert Enterprises Ltd. | Tempe, AZ.
Eckert Machining, Inc | San Jose, CA.
Eclipse Mold, Inc | Clinton Township, MI.
Eclipse Tool & Die, Inc | Wayland, MI.
Ed Brown Products, Inc | Perry, MO.
Edco, Inc | Toledo, OH.
EDM Supplies, Inc | Downey, CA.
Edwardsville Machine & Welding | Edwardsville, IL.
Efficient Die & Mold Inc | Cleveland, OH.
Egli Machine Company, Inc | Sidney, NY.
Ehlert Tool Co., Inc | New Berlin, WI.
Ehrhardt Tool & Machine Company | Granite City, IL.
Eicom Corporation | Moraine, OH.
86 Tool Company | Cambridge Springs, PA.
Ejay's Machine Co., Inc | Fullerton, CA.
Elcam Tool & Die, Inc | Wilcox, PA.
Electra Form Industries Inc | Vandalia, OH.
Electric Enterprise Inc | Stratford, CT.
Electro Form Corporation | Binghamton, NY.
Electro-Freeto Manufacturing Co | Wayland, MA.
Electro-Mechanical Products, Inc | Denver, CO.
Electro-Tech Machining | Long Beach, CA.
Electroform Co. Inc | Machesney Park, IL.
Elgin Machine Corporation | Inwood, NY.
Elite Tool & Machinery Systems, Inc | O'Fallon, MO.
Elizabeth Carbide Die Co., Inc | McKeesport, PA.
Elizabeth Carbide of North | Lexington, NC.
Elkhart Machine Group | Elkhart, IN.
Elliot Tool & Manufacturing Co. | St. Louis, MO.
Elliott's Precision, Inc | Peoria, AZ.
Ellison Machine Company | Laurens, SC.
Elrae Industries | Alden, NY.
Emig Machine and Tool | Warwick, PA.
Emmert Welding & Manufacturing | Independence, MO.
Empire Manufacturing Corporation | Bridgeport, CT.
Engineered Machine Tool, Inc | Wichita, KS.
Engineered Pump Services, Inc | Pasadena, TX.
Entek Corporation | Norman, OK.
Enterprise Tool & Die | Brooklyn Heights, OH.
Ephrata Precision Parts, Inc | Denver, PA.
Epicor Software Corporation | Minneapolis, MN.
Erca Tool Die & Stamping Company | Richmond Hill, NY.
Erickson Tool & Machine Company | Rockford, IL.
Erie Shore Machine Co., Inc | Cleveland, OH.
Erie Specialty Products, Inc | Erie, PA.
Ermco, Inc | Cleveland, OH.
Estee Mold & Die, Inc | Dayton, OH.
Esterle Mold & Machine Co. | Stow, OH.
Estul Tool & Manufacturing Co. | Matthews, NC.
Evans Tool & Die, Inc | Conyers, GA.
Ever Fab, Inc | East Aurora, NY.
Ever-Ready Tool, Inc | Largo, FL.
Everett Pattern and Mfg., Inc | Middleton, MA.
Everite Machine Products | Philadelphia, PA.
Arthur J. Evers Corporation | Riverton, NJ.
Ewart-Ohison Machine Company | Cuyahoga Falls, OH.
Ex-Cel Machine & Tool, Inc | Louisville, KY.
Exact Cutting Service, Inc | Brecksville, OH.
Exact Tool & Die, Inc | Brook Park, OH.
Exacta Tech Inc | Livermore, CA.
Exacto, Inc of South Bend | South Bend, IN.
Excalibur Precision Machine Co. | Hampstead, NH.
Excel Machine Company | Philadelphia, PA.
Excel Manufacturing, Inc | Valencia, CA.
Excel Manufacturing Inc | Seymour, IN.
Excel Stamping & Manufacturing | Houston, TX.
Executive Mold Corporation | Huber Heights, OH.
Ezell Precision Tool Company | Clearwater, FL.
F & F Machine Specialties | Mishawaka, IN.
F & G Tool & Die Company | Dayton, OH.
F & L Tools Corporation | Corona, CA.
F & S Tool, Inc | Erie, PA.
F C Machine Tool & Design, Inc | Cuyahoga Falls, OH.
F D T Precision Machine Co., Inc | Taunton, MA.
F G A Inc | Baton Rouge, LA.
F K Instrument Co., Inc | Clearwater, FL.
FMF Racing | Rancho Dominguez, CA.
F M Machine Company | Akron, OH.
F N Smith Corporation | Oregon, IL.
F P Pla Tool & Manufacturing Co. | Buffalo, NY.
F R B Machine Inc | Emlenton, PA.
F S G Inc | Mishawaka, IN.
F. S. Machining, Inc | Englewood, CO.
F T T Manufacturing Inc | Geneseo, NY.
F Tinker & Sons Company | Pittsburgh, PA.
F W Gartner Thermal Spraying Co. | Houston, TX.
F-Squared, Inc | Tarentum, PA.
Fab Lab, Inc | Maryland Heights, MO.
FabCorp, Inc | Houston, TX.
Fairbanks Machine & Tool | Raytown, MO.
Fairview Machine Company, Inc | Topsfield, MA.
Faith Tool & Manufacturing, Inc | Willoughby, OH.
Falcon Precision Machining Co | West Springfield, MA.
Falls City Machine Technology | Louisville, KY.
FallsMold & Die, Inc | Stow, OH.
Fame Tool & Manufacturing Co | Cincinnati, OH.
Fantasy Manufacturing, Inc | Windsor, CA.
Fargo Machine Company, Inc | Ashtabula, OH.
Farzati Manufacturing Corp | Greensburg, PA.
Fast Physics Inc | Tempe, AZ.
Fay & Quartermaine Machining | El Monte, CA.
Fay Tool & Die, Inc | Orlando, FL.
Feedall, Inc | Willoughby, OH.
Feilhauer's Machine Shop, Inc | Cincinnati, OH.
Feller Tool Co., Inc | Elyria, OH.
Fenton Manufacturing, Inc | Ashtabula, OH.
Fenwick Machine & Tool | Piedmont, SC.
Feral Productions LLC | Newark, CA.
Ferriot Inc | Akron, OH.
First International Bank | Hartford, CT.
Fischer Precision Spindles, Inc | Berlin, CT.
Fischer Tool & Die Corporation | Temperance, MI.
Fitzwater Engineering Corp | Scituate, RI.
Five Star Industries LLC | Dayton, OH.
Five Star Tool Company, Inc | Rochester, NY.
Flasche Models & Patterns, Inc | Cleveland, OH.
Fleck Machine Company, Inc | Hanover, MD.
Foriska Machine Shop | Saegertown, PA.
Forster Tool & Mfg., Inc | Bensenville, IL.
Forte Company | Kansas City, MO.
The Foster Group | Rochester, NY.
Foster-Tobin Corp | Meadville, PA.
4 Axis Machining, Inc | Denver, CO.
Fox Valley Tool & Die, Inc | Kaukauna, WI.
Franchino Mold & Engineering | Lansing, MI.
Frank J. Stolitzka & Son, Inc | Akron, OH.
Frasal Tool Co., Inc | Newington, CT.
Frazier Aviation, Inc | San Fernando, CA.
Fre-Mar Industries, Inc | Brunswick, OH.
J F Fredericks Tool Company, Inc | Farmington, CT.
Fredon Corporation | Mentor, OH.
Freeport Welding & Fabricating | Freeport, TX.
Frost & Company | Charlestown, RI.
Fulcrum Group, LLC | Hayward, CA.
Fulton Industries, Inc | Rochester, IN.
Furno Co. Inc | Pomona, CA.
Future Fabricators | Phoenix, AZ.
Future Tool & Die Company, Inc | Cleveland, OH.
Future Tool & Die, Inc | Grandville, MI.
Fyco Tool & Die, Inc | Houston, TX.
G & G Tool Company, Inc | Sidney, OH.
G & K Machine Company | Denver, CO.
G & L Tool Corp | Agawam, MA.
G B F Enterprises, Inc | Santa Ana, CA.
G B Tool Company | Warwick, RI.
G F T Manufacturing Company | Vandergrift, PA.
G H Tool & Mold, Inc | Washington, MO.
G M T Corporation | Waverly, IA.
G R McCormick, Inc | Burbank, CA.
G S C Manufacturing Inc | Indianapolis, IN.
G S G Tool and Manufacturing | Meadville, PA.
G S Precision, Inc | Brattleboro, VT.
Gadsden Tool, Inc | Gadsden, AL.
Gainesville Machining Inc | Gainesville, TX.
Gales Manufacturing Corporation | Racine, WI.
Galgon Industries, Inc | Fremont, CA.
Gambar Products Company, Inc | Warwick, RI.
Garcia Associates | Arlington, VA.
Gatco, Inc | Plymouth, MI.
Gauer Mold & Machine Company | Talimadge, OH.
Gaum, Inc | Robbinsville, NJ.
Gear Manufacturing, Inc | Anaheim, CA.
Gebhardt Machine Works, Inc | Portland, OR.
Geiger Manufacturing, Inc | Stockton, CA.
Gem City Engineering Company | Dayton, OH.
Gene's Gundri 11 ing Inc | Alahambra, CA.
General Aluminium Forgings | Colorado Springs, CO.
General Die Engraving, Inc | Twinsburg, OH.
General Engineering Company | Toledo, OH.
General Grinding, Inc | Oakland, CA.
General Machine-Diecron, Inc | Griffin, GA.
General Machine Shop, Inc | Cheverly, MD.
General Tool & Die Company, Inc | Racine, WI.
General Tool Company | Cincinnati, OH.
Genesee Manufacturing Company | Rochester, NY.
Genesee Precision Mfg., Inc | Avon, NY.
Genesis Plastics & Engineering | Scottsburg, IN.
Gentec Manufacturing Inc | San Jose, CA.
Geometric Tool & Machine Co | Piedmont, SC.
German Machine, Inc | Rochester, NY.
Germantown Tool & Machine | Huntingdon Valley, PA.
Gibbs Die Casting Corporation | Henderson, KY.
Gibbs Machine Company, Inc | Greensboro, NC.
Gilbert Engineering Company | Glendale, AZ.
Gilbert Machine & Tool Company | Greene, NY.
Gill Tool & Die, Inc | Grand Rapids, MI.
Gillette Machine & Tool Company | Rochester, NY.
Girard Tool & Die/Jackburn Mfg | Girard, PA.
Gischel Machine Company Inc | Baltimore, MD.
Givmar Precision Machining | Mountain View, CA.
Glaze Tool & Engineering, Inc | New Haven, IN.
Glendale Machine Company, Inc | Solon, OH.
Glendo Corporation | Emporia, KS.
Glidden Machine & Tool, Inc | North Tonawanda, NY.
Global Mfg. & Assembly | Phoenix, AZ.
Global Precision, Inc | Davie, FL.
Golis Machine, Inc | Montrose, PA.
Goodwin-Bradley Pattern Co., Inc | Providence, RI.
Graham Tech, Inc | Cochranton, PA.
Granby Mold, Inc | Walled Lake, MI.
Graybill's Tool & , Inc | Manheim, PA.
Great Lakes E.D.M., Inc | Clinton Twp., MI.
Great Lakes Metal Treating, Inc | Tonawanda, NY.
Great Lakes Precision Machine | Niles, MI.
Great Western Grinding & Eng | Huntington Beach, CA.
Grind All Precision Tool Co | Warren, MI.
Grind-All, Inc | Cleveland, OH.
GrindC/O, Inc | Chelmsford, MA.
Grinding Service & Mfg. Co | Bristol, CT.
Grindworks Inc | Glendale, AZ.
Grosmann Precision | Baliwin, MO.
Grover Gundrilling, Inc | Norway, ME.
Guill Tool & Engineering Co | West Warwick, RI.
Gulf Machining | Pinellas Park, FL.
Gulf South Machine/Drilex Corp | Houston, TX.
Gurney Precision Machining | Saint Petersburg, FL.
H & H Machine Company | Whittier, CA.
H & H Machine Shop Of Akron, Inc | Akron, OH.
H & H Machined Products, Inc | Erie, PA.
H & K Machine Service Co., Inc | O'Fallon, MO.
H & M Precision Machining | Santa Clara, CA.
H & S Enterprises, Inc | Monrovia, CA.
H & W Machine Company | Broomfield, CO.
H & W Tool Company, Inc | Dover, NJ.
H B Machine, Inc | Phoenix, AZ.
HB Molding, Inc | Louisville, KY.
H-B Tool & Cutter Grinding, Inc | Willow Grove, PA.
H Brauning Company, Inc | Manassas, VA.
H H Mercer, Inc | Mesquite, TX.
H R M Machine, Inc | Costa Mesa, CA.
Haberman Machine, Inc | St. Paul, MN.
Hackett Precision Company | Nashville, TN.
Hager Machine & Tool, Inc | Houston, TX.
Haig Precision Mfg. Corp | Campbell, CA.
Hal-West Technologies, Inc | Kent, WA.
Hamblen Gage Corporation | Indianapolis, IN.
Hamill Manufacturing Company | Trafford, PA.
Hamilton Industries, Inc | Tempe, AZ.
Hamilton Machine Co., Inc | Nashville, TN.
Hamilton Mold & Machine, Inc | Cleveland, OH.
Hamilton Tool Company, Inc | Meadville, PA.
Hamlin Steel Products, Inc | Akron, OH.
Hammill Manufacturing Company | Toledo, OH.
Hammon Precision Technologies | Hayward, CA.
Hanks Pattern Company | Montrose, MN.
Hanover Machine Company | Ashland, VA.
Hans Rudolph, Inc | Kansas City, MO.
Hansen Engineering | Harbor City, CA.
Hansford Manufacturing Corp | Rochester, NY.
The Hanson Group, LTD | Ludlow, MA.
Hanson Mold | St. Joseph, MI.
Har-Phill Machine Products, Inc | Tempe, AZ.
Hardy Machine Inc | Hatfield, PA.
Hardy-Reed Tool & Die Co | Manitou Beach, MI.
Harley & Son, Inc | Yorba Linda, CA.
Hartup Tool Inc | Columbus, IN.
J W Harwood Company | Cleveland, OH.
Haserodt Machine & Tool, Inc | Cleveland, OH.
Haskell Machine & Tool, Inc | Homer, NY.
Haumiller Engineering Company | Elgin, IL.
Hawkeye Precision, Inc | Gilbert, AZ.
Hawkins Machine Company, Inc | Coventry, RI.
Hawkinson Mold Engineering Co | Alhambra, CA.
Hayden Corporation West | Springfield, MA.
Heatherington Machine Corp | Orlando, FL.
Heinhold Engineering & Machine | Salt Lake City, UT.
Heisey Machine Co., Inc | Lancaster, PA.
Heitz Machine & Manufacturing | Maryland Heights, MO.
Hellebusch Tool & Die, Inc | Washington, MO.
Helm Precision, Ltd | Phoenix, AZ.
Henman Engineering & Machine | Muncie, IN.
Herman Machine, Inc | Tallmadge, OH.
Herrick & Cowell Company | Hamden, CT.
Hetrick Mfg., Inc | Lower Burrell, PA.
Heyden Mold & Bench Company | Tallmadge, OH.
Heyl Engraving, Inc | North Canton, OH.
Hi Tech Manufacturing, LLC | Greensboro, NC.
Hi-Tech Machining & Engineering LLC | Tucson, AZ.
Hi-Tech Tool Industries, Inc | Troy, MI.
Hi-Tech Tool, Inc | Lower Burrell, PA.
Hiatt Metal Products Company | Muncie, IN.
Hickory Machine Company, Inc | Newark, NY.
High Tech Turning Co. | Watertown, MA.
High-Tech Industries | Holland, MI.
Highldnd Mfg. Inc | Manchester, CT.
Hill Engineering, Inc | Villa Park, IL.
Hillcrest Precision Tool Co. Inc | Haverhill, MA.
Hillcrest Tool & Die, Inc | Titusville, PA.
Hilton Tool & Die Corporation | Rochester, NY.
Hittle Machine & Tool Company | Indianapolis, IN.
Hobson & Motzer, Inc | Durham, CT.
Hodon Manufacturing, Inc | Willoughby, OH.
Hoercher Industries, Inc | East Rochester, NY.
Hoffman Custom Tool & Die | Newport Beach, CA.
Hoffstetter Tool & Die | Clearwater, FL.
Hole Specialists, Inc | Ludlow, MA.
Holland Hitch Co. | Wylie, TX.
Hollis Line Machine Co., Inc | Hollis, NH.
Holmes Manufacturing Corporation | Cleveland, OH.
Holton Mold & Engineering | Upland, CA.
Homeyer Tool and Die Co. | Marthasville, MO.
Honemasters, Inc | Huntington Beach, CA.
Hoop's Machine & Welding, Inc | Denton, TX.
Hope Manufacturing, Inc | Greensboro, NC.
Hoppe Tool, Inc | Chicopee, MA.
Horizon Industries | Lancaster, PA.
Horizon Tool & Die Corp. | Grandville, MI.
Houston Cutting Tools, Inc | Houston, TX.
Howell Tool & Machine | Flower Mound, TX
Howland Machine Corporation | Colorado Springs, CO.
Hubbell Machine Company, Inc | Cleveland, OH.
Humboldt Instrument Company | San Leandro, CA
Hunt Machine & Manufacturing Co | Tallmadge, OH.
Huron Machine Products, Inc | Fort Lauderdale, FL.
HydraWedge Corporation | El Segundo, CA.
Hydro Aluminum Cedar Tools | Cedar Springs, MI.
Hydrodyne Division Of FPI, Inc | Burbank, CA.
Hydromat, Inc | St. Louis, MO.
Hygrade Precision Technologies | Plainville, CT.
Hytron Manufacturing Company | Huntington Beach, CA.
ILM Tool, Inc | Hayward, CA.
IQC, Inc | Vandalia, OH.
ISO Machining, Inc | Pleasanton, CA.
I T M, Inc | Shertz, TX.
ITW CIP Tool and Die | Santa Fe Springs, CA.
Ideal Grinding Technologies, Inc | Chatsworth, CA.
Imperial Die & Manufacturing Co | Cleveland, OH.
Imperial Machine & Tool Company | Wadsworth, OH.
Imperial Machining Co | Denver, CO.
Imperial Mfg | Santa Fe Springs, CA.
Imperial Newbould | Meadville, PA.
Imperial Tool & Manufacturing Co | Lexington, KY.
IndTool, Inc | Burlington, NC.
Indiana Tool & Die Company | Indiana, PA.
Industrial Babbitt Bearing | Gonzales, LA.
Industrial Custom Automatic | Dayton, OH.
Industrial Grinding, Inc | Dayton, OH.
Industrial Machine Company | Oklahoma City, OK.
Industrial Machine & Tool Co., Inc | Nashville, TN.
Industrial Machining Corporation | Santa Clara, CA.
Industrial Maintenance | Lavergne, TN.
Industrial Mold + Machine | Twinsburg, OH.
Industrial Molds, Inc | Rockford, IL.
Industrial Precision, Inc | Westfield, MA.
Industrial Precision Products | Oswego, NY.
Industrial Tool & Machine Co. | Cuyahoga Falls, OH.
Industrial Tool, Die | Tucson, AZ.
Industrial Tool, Inc | Minneapolis, MN.
Industrial Tooling Technologies | Muskegon, MI.
Ingersoll Contract Manufacturing | Loves Park, IL.
Injection Mold & Machine Company | Akron, OH.
Inland Tool & Manufacturing Co | Kansas City, KS.
Inline Inc | Phoenix, AZ.
Innex Industries, Inc | Rochester, NY.
Innovative E D M, LLC | Troy, MI.
Innovative Systems Machine | Toledo, OH.
Insulate Inc | Auburn, WA.
Integrated Machine Systems | Bethel, CT.
Integrity Mfg. L.L.C. | Farmington, CT.
International Stamping Inc | Warwick, RI.
International Tooling & Stamping | Mt. Juliet, TN.
Interscope Manufacturing Inc | Middletown, OH.
Intrex Corporation | Louisville, CO.
Iverson Industries, Inc | Wyandotte, MI.
J & A Tool Company, Inc | Franklin, PA.
J & F Machine Company | Cleveland, OH.
J & F Machine Inc | Cypress, CA.
J & J Tool Co., Inc | Louisville, KY.
J & L EDM | Sunnyvale, CA.
J & M Machine, Inc | Fairport Harbor, OH.
J & M Unlimited | Ashland City, TN.
J.B.A.T. t/a Cherry Hill | Cherry Hill, NJ.
JBK Manufacturing & Development | Dayton, OH.
J B Tool Die & Engineering, Inc | Fort Wayne, IN.
J B Tool, Inc | Placentia, CA.
J C B Precision Tool & Mold, Inc | Commerce City, CO.
J. C. Milling Co., Inc | Rockford, IL.
J D Kauffman Machine Shop, Inc | Christiana, PA.
J D Machining | Santa Clara, CA.
J I Machine Company, Inc | San Diego, CA.
J K Tool & Die, Inc | Apollo, PA.
J M Fabrication Corporation | Arlington, TX.
J M Mold South | Easley, SC.
J M Mold, Inc | Piqua, OH.
J M P Industries, Inc | Cleveland, OH.
J M S Mold & Engineering Co | South Bend, IN.
J R Custom Metal Products, Inc | Wichita, KS.
JRM Machine Company | St. Paul, MN.
J Ross Miller & Sons, Inc | Kimberton, PA.
J S Die & Mold, Inc | Byron Center, MI.
Jackman Machining | Corona, CA.
Jackson & Heit Machine Company | Southampton, PA.
Jacksonville Machine Inc | Jacksonville, IL.
Jaco Engineering | Anaheim, CA.
Jaco Tool & Die, Inc | Grand Rapids, MI.
Jadco Inc | Springfield, MA.
Jamison Mfg. Co | North Royalton, OH
Jason Tool & Engineering, Inc | Garden Grove, CA.
Jatco Machine & Tool Company | Pittsburgh, PA.
Jena Tool Corporation | Dayton, OH.
Jenkins Machine, Inc | Bethlehem, PA.
Jenn Manufacturing Company, Inc | Warminster, PA.
Jennison Corporation | Carnegie, PA.
Jergens Tool and Mold | Englewood, OH.
Jergens, Inc | Cleveland, OH.
Jesel, Inc | Lakewood, NJ.
Jesse Industries, Inc | Sparks, NV.
Jet Products Co., Inc | Phoenix, AZ.
Jewett Machine Mfg. Co., Inc | Richmond, VA.
Jig Grinding Service Company | Cleveland, OH.
Jirgens Modern Tool Corporation | Kalamazoo, MI.
John Ramming Machine Company | St. Louis, MO.
Johnson Engineering Company | Indianapolis, IN.
Johnson Precision, Inc | Buffalo, NY.
Johnson Tool, Inc | Fairview, PA.
Joint Production Technology, Inc | Macomb, MI.
Joint Venture Tool & Mold | Saegertown, PA.
Jonco Tool Company | Racine, WI.
T R Jones Machine Company, Inc | Crystal Lake, IL.
Joseph Alziebler Company | Arleta, CA.
Juell Machine Company, Inc | Pomona, CA.
Just in Time CNC Machining, Inc | Dansville, NY.
K & A Tooling | Santa Ana, CA.
K & E Mfg. Company | Lee's Summit, MO.
K & H Mold & Machine Division | Akron, OH.
K & H Precision Products, Inc | Honeoye Falls, NY.
K & M Machine-Fabricating, Inc | Cassopolis, MI.
K & M Precision Machining, Inc | Signal Hill, CA.
K & S Tool & Die, Inc | Meadville, PA.
K & S Tool & Mfg. Company, Inc | Jamestown, NC.
K.C.K. Tool & Die Co., Inc | Ferndale, MI.
K-Form, Inc | Tustin, CA.
K L H Industries, Inc | Germantown, WI.
K L N Precision Machining | Fremont, CA.
K M F, Inc | Fairdale, KY.
K M S Machine Works, Inc | Taunton, MA.
K Mold & Engineering, Inc | Granger, IN.
K V, Inc | Huntingdon Valley, PA.
Ka-Wood Gear & Machine Company | Madison Heights, MI.
Kahre Brothers, Inc | Evansville, IN.
Kalman Manufacturing | Morgan Hill, CA.
Kamashian Engineering, Inc | Bellf lower, CA.
Kanis Machine & Manufacturing, Inc | Tewksbury, MA.
Kansas City Screw Products, Inc | Kansas City, MO.
T. J. Karg Company, Inc | Akron, OH.
Karlson Machine Works, Inc | Phoenix, AZ.
Karsten Precision | Phoenix, AZ.
Kaskaskia Tool & Machine, Inc | New Athens, IL.
Kaufhold Machine Shop, Inc | Lancaster, PA.
C B Kaupp & Sons, Inc | Maplewood, NJ.
Kearflex Engineering Company | Warwick, RI.
Keck-Schmidt Tool & Die | South El Monte, CA.
Kell-Strom Tool Company, Inc | Wethersfield, CT.
Kellems & Coe Tool Corporation | Jeffersonville, IN.
Keller Technology Corporation | Tonawanda, NY.
Kelley Industries, Inc | Eighty Four, PA.
Kelitech Precision Machining, Inc | San Jose, CA.
Keim Manufacturing Company | Benton Harbor, MI.
Kelmar, Inc | Midland, VA.
Kern-Mu-Co | Hayward, CA.
Kemco Tool & Machine Company | Fenton, MO.
Kenlee Precision Corporation | Baltimore, MD.
Kennametal Inc | Latrobe, PA.
Kennebec Tool & Die Co., Inc | Augusta, ME.
Kennedy & Bowden Machine Company | La Vergne, TN.
Kennick Mold & Die, Inc | Cleveland, OH.
Kentucky Machine & Tool Company | Louisville, KY.
Kern Special Tools Company, Inc | New Britain, CT.
Ketcham Diversified Tooling Inc | Cambridge, PA.
Kewill ERP, Inc | Edina, MN.
Keyes Machine Works, Inc | Gates, NY.
Keystone Machine, Inc | Littlestown, PA.
Kimberly Gear & Spline, Inc | Phoenix, AZ.
King Machine & Engineering Co | Indianapolis, IN.
King-Tek EDM & Precision Machining | Fullerton, CA.
Kipp Group | Ontario, CA.
Kirby Risk Precision Machining | Lafayette, IN.
Kirca Precision | Rochester, NY.
Kiwanda Machine Works, Inc | Clackamas, OR.
Klein Steel Service, Inc | Rochester, NY.
Klix Tool Corporation | Syracuse, NY.
Knowlton Manufacturing Company | Norwood, OH.
Knust—S B O | Houston, TX.
Kolar, Inc | Ithaca, NY.
Kolenda Tool & Die, Inc | Wyoming, MI.
Kordenbrock Tool & Die Company | Cincinnati, OH.
Kovacs Machine & Tool Company | Wallingford, CT.
Krause Tool, Inc | Golden, CO.
Kuester Tool & Die Co., Inc | Quincy, IL.
Kuhn Tool & Die Co | Meadville, PA.
Kurt J. Lesker Company | Pittsburgh, PA.
Kurt Manufacturing Company | Minneapolis, MN.
L & L Machine, Inc | Ludlow, MA.
L & P Machine, Inc | Santa Clara, CA.
L A I Southwest, Inc | Phoenix, AZ.
L H Carbide Corporation | Fort Wayne, IN.
L P I Corporation | Hollywood, FL.
L R G Corporation | Jeannette, PA.
L R W Cutting Tools, Inc | Phoenix, AZ.
L T L Company, Inc | Rockford, IL.
LaBarge Products, Inc | St. Louis, MO.
Lake Manufacturing Co., Inc | Newburyport, MA.
Lakeside Manufacturing Company | Stevensville, MI.
Lamb Machine & Tool Company | Indianapolis, IN.
Lamina, Inc | Oak Park, MI.
Lampin Corporation | Uxbridge, MA.
Lancaster Machine Shop | Lancaster, TX.
Lancaster Metal Products Company | Lancaster, OH.
Lancaster Mold, Inc | Lancaster, PA.
Land Specialties Manufacturing | Raytown, MO.
Lane Enterprise | Rochester, NY.
Lane Punch Corporation | Salisbury, NC.
Laneko Engineering Company | Ft. Washington, PA.
Laneko Roll Form, Inc | Hatfield, PA.
Lange Precision, Inc | Fullerton, CA.
Langenau Manufacturing Company | Cleveland, OH.
Laser Automation, Inc | Chagrin Falls, OH.
Laser Beam Technology | Hayward, CA.
Laser Fare, Inc | Smithfield, RI.
Laser Tool, Inc | Saegertown, PA.
LaserFab, Inc | Concord, CA.
Lathe Tool Works, Inc | Richmond, CA.
Lavelle Machine | Westford, MA.
Lavigne Manufacturing, Inc | Cranston, RI.
Layke Incorporated | Phoenix, AZ.
Layke Tool & Manufacturing, Inc | Meadville, PA.
LeBlanc Grinding Company | Anaheim, CA.
Ledford Engineering Company, Inc | Cedar Rapids, IA.
Lee's Grinding, Inc | Cleveland, OH.
Leech Industries, Inc | Meadville, PA.
Lees Enterprise | Chatsworth, CA.
Leese & Co., Inc | Greensburg, PA.
Leggett & Platt, Inc | Whittier, CA.
Leicester Die & Tool, Inc | Leicester, MA
Lemco-Miller Corporation | Danvers, MA.
Lenz Technology, Inc | Mountain View, CA.
Leonardi Manufacturing Co., Inc | Weedsport, NY.
Lewis Aviation | Phoenix, AZ.
Lewis Machine and Tool Company | Milan, IL.
Lewis Machine & Tool Co. Inc | Cuba, MO.
Liberty Precision Industries, Ltd. | Rochester, NY.
Libra Precision Machining | Tecumseh, MI.
Light & Medium Fabricating, Inc | Willoughby, OH.
Light Machines Corporation | Manchester, NH.
Ligi Tool & Engineering, Inc | Pompano Beach, FL.
Lilly Software Associates, Inc | Hampton, NH.
Limmco, Inc | New Albany, IN.
Linco, Inc | Phoenix, AZ.
Lindberg Heat Treating | Paramount, CA.
Linmark Machine Products, Inc | Union, MO.
Little Rhody Machine Repair, Inc | Coventry, RI.
Littlecrest Machine Shop, Inc | Houston, TX.
Lloyd Company | Houston, TX.
Lobart Company | Pacoima, CA.
Loecy Precision Mfg. | Mentor, OH.
LOMA Automation Technologies, Inc | Louisville, KY.
Lordon Engineering | Gardena, CA.
Louis C. Morin Co. Inc | N. Billerica, MA.
Loyal Machine Company, Inc | Chelsea, MA.
Luick Quality Gage & Tool, Inc | Muncie, IN.
Lunar Tool & Machinery Company | St. Louis, MO.
Lunar Tool & Mold, Inc | North Royalton, OH.
Lunquist Manufacturing Corp | Rockford, IL.
Lux Manufacturing, Inc | Sunnyvale, CA.
Lynn Welding Co. Inc | Newington, CT.
Lyons Tool & Die Company | Meriden, CT.
M & D Loe Manufacturing, Inc | Benicia, CA.
M & H Engineering Company, Inc | Danvers, MA.
M & H Tool & Die, Inc | Gadsden, AL.
M & J Grinding & Tool Co. | Holland, OH.
M & J Valve Services, Inc | Lafayette, LA.
M & S Holes Corporation | New Brunswick, NJ.
M C I Tool & Die, Inc | Saginaw, MI.
M C Mold & Machine, Inc | Talimadge, OH.
M D F Tool Corporation | North Royalton, OH.
M F Engineering Co. Inc | Bristol, RI.
M J C Machine Tooling | Hudson, NH.
M J K Precision | Woodland Park, CO.
M. J. Machining, Inc | Morgan Hill, CA.
M P Components | Grand Rapids, MI.
M P E Machine Tool Inc | Corry, PA.
M P Technologies, Inc | Brecksville, OH.
MRC Technologies | Buffalo, NY.
M. R. Mold & Engineering Corp | Brea, CA.
M S Willett, Inc | Cockeysville, MD.
M T E, Inc | San Jose, CA.
M T M Grinding | Thorndike, MA.
M-C Fabrication, Inc | Olathe, KS.
M-Ron Corporation | Glendale, AZ.
M-Tron Manufacturing Company, | San Fernando, CA.
Mac Machine and Metal Works, Inc | Connersville, IN.
Mac-Mold Base, Inc | Romeo, MI.
Machine Incorporated | Stoughton, MA.
Machine Mastery | Santa Clara, CA.
Machine Specialties, Inc | Greensboro, NC.
Machine Tooling, Inc | Cleveland, OH.
Machinist Cooperative | Gilroy, CA.
Machinists, Inc | Seattle, WA.
MacKay Manufacturing | Spokane, WA.
Maddox Metal Works, Inc | Dallas, TX.
Madgett Enterprises Inc | Milipitas, CA.
Magdic Precision Tooling, Inc | East McKeesport, PA.
Maghielse Tool Corporation | Grand Rapids, MI.
Magic Manufacturing, Inc | Sunnyvale, CA.
Magna Machine & Tool Company | New Castle, IN.
Magnum Manufacturing Center, Inc | Colorado Springs, CO.
Magnus Mfg. Corp | Shortsville, NY.
Mahuta Tool Corp | Germantown, WI.
Main Tool & Mfg. Co., Inc | Minneapolis, MN.
Maine Machine Products | South Paris, ME.
Mainline Machine, Inc | Broussard, LA.
Majer Precision Engineering, Inc | Tempe, AZ.
Major Tool & Machine, Inc | Indianapolis, IN.
Makino | Mason, OH.
Malmberg Engineering, Inc | Livermore, CA.
Manda Machine Company, Inc | Dallas, TX.
Manetek, Inc | Broussard, LA.
Manheim Special Machine Shop | Manheim, PA.
Mann Tool Company, Inc | Pacific, MO.
Manor Research, Inc | Hayward, CA.
Manufactured Technical Solutions | Jenison, MI.
Manufacturing Machine Corp | Pawtucket, RI.
Manufacturing Service Corp | West Hartford, CT.
Marberry Machine, Inc | Houston, TX.
Marco Manufacturing Company | Akron, OH.
Marcy Machine, Inc | Grandview, MO.
Mardon Tool & Die Company, Inc | Rochester, NY.
Marini Tool & Die Company, Inc | Racine, WI.
Mans Systems Design, Inc | Spencerport, NY.
Markham Machine Co. Inc | Akron, OH.
Marlin Tool, Inc | Cuyahoga Falls, OH.
Marquette Tool & Die Company | St. Louis, MO.
Marshall Manufacturing Company | Minneapolis, MN.
Martinek Manufacturing | Fremont, CA.
Martinelli Machine | San Leandro, CA.
Masco Machine, Inc | Cleveland, OH.
Massachusetts Machine Works, Inc | Westwood, MA.
Massey Industries, Inc | Houston, TX.
Master Cutting & Engineering, | Santa Fe Springs, CA.
Master Industries Inc | Piqua, OH.
Master Precision Tool Corp | Sterling Heights, MI.
Master Research & Manufacturing | Norwalk, CA.
Master Tool & Die | Anaheim, CA.
Master Tool & Mold, Inc | Grafton, WI.
Mastercraft Mold, Inc | Phoenix, AZ.
Mastercraft Tool Co | St. Louis, MO.
Mastercraft Tool & Machine Co | Southington, CT.
Masterman Engineering | Kent, WA.
MaTech Machining Technologies | Salisbury, MD.
Matthews Gauge, Inc | Santa Ana, CA.
Maudlin & Son Manufacturing Co | Kemah, TX.
May Tool & Die, Inc | North Royalton, OH.
May Tool & Mold Company, Inc | Kansas City, MO.
Mayf ran International | Cleveland, OH.
McCurdy Tool & Machine Inc | Caledonia, IL.
McAfee Tool & Die, Inc | Uniontown, OH.
McDowell Enterprises, Inc | Elkhart, IN.
Dan McEachern Company | Alameda, CA.
McGill Manufacturing Company | Flint, MI.
McGough & Kilguss | Providence, RI.
Mclvor Manufacturing, Inc | Buffalo, NY.
McKee Carbide Tool Division | Olanta, PA.
McKenzie Automation Systems, Inc | Rochester, NY.
McNeal Enterprises, Inc | San Jose, CA.
McNeill Manufacturing Company | Oakland, CA.
McSwain Manufacturing Corp. | Cincinnati, OH.
Meadows Manufacturing Co., Inc | Sunnyvale, CA.
Meadville Plating Company, Inc | Meadville, PA.
Meadville Tool Grinding | Meadville, PA.
Mechanical Manufacturing Corp | Sunrise, FL.
Mechanical Metal Finishing Co | Gardena, CA.
Mechanized Enterprises, Inc | Anaheim, CA.
Medved Tool & Die Company | Milwaukee, WI.
Menegay Machine & Tool Company | Canton, OH.
Mercer Machine Company, Inc | Indianapolis, IN.
Mercier Tool & Die Company | Canton, OH.
Meriden Manufacturing | Meriden, CT.
Merritt Tool Company, Inc | Kilgore, TX.
Metal Cutting Specialists, Inc | Houston, TX.
Metal Form Engineering | Redlands, CA.
Metal Processors Inc | Stevensville, MI.
Metallon, Inc | Thomaston, CT.
Metals USA, Flagg Steel Co., Inc | St. Louis, MO.
Metco Manufacturing Company, Inc | Warrington, PA.
Metplas, Inc | Natrona Heights, PA.
Metric Machining | Monrovia, CA.
Metric Precision Inc | Spartanburg, SC.
Metro Manufacturing, Inc | Phoenix, AZ.
Miami Tool & Die, Inc | Huntington, IN.
Michigan Machining Inc | Mt. Morris, MI.
Micro Chrome & Lapping, Inc | San Jose, CA.
Micro Engineering Inc | Caledonia, MI.
Micro Instrument Corporation | Rochester, NY.
Micro Matic Tool, Inc | Youngstown, OH.
Micro Precision Company | Houston, TX.
Micro Precision Corporation | Lancaster, PA.
Micro Punch & Die Company | Rockford, IL.
Micro Surface Engineering, Inc | Los Angeles, CA.
Micro Tool & Manufacturing, Inc | Meadville, PA.
Micro-Tec | Chatsworth, CA.
Micro-Tech Machine Inc | Newark, NY.
Micro-Tronics, Inc | Tempe, AZ.
Microfinish | Clayton, OH.
Micropulse West, Inc | Tempe, AZ.
Mid-Central Manufacturing, Inc | Wichita, KS.
Mid-Continent Engineering, Inc | Minneapolis, MN.
Mid-State Manufacturing, Inc | Milldale, CT.
Mid-States Forging Die & Tool | Rockford, IL.
Middle River Machine Services | Baltimore, MD.
Midland Precision Machining, Inc | Tempe, AZ.
Midway Mfg. Inc | Elyria, OH
Midwest Machine & Manufacturing Co. | Muskegon, MI.
Midwest Tool & Die Corporation | Fort Wayne, IN.
Midwest Tool & Engineering Co. | Dayton, OH.
Mikana Manufacturing Co., Inc | San Dimas, CA.
Mikron Machine, Inc | Cranesville, PA.
Mikron Manufacturing, Inc | Colorado Springs, CO.
Mu-Tool & Plastics Inc | Zephyrhills, FL.
Milco Wire EDM, Inc | Huntington Beach, CA.
Millat Industries Corp. | Dayton, OH.
Miller Equipment Corporation | Richmond, VA.
Miller Machine & Design, Inc | Charlotte, NC.
Miller Mold Company | Saginaw, MI.
Millrite Machine Inc | Westfield, MA.
Milrose Industries | Cleveland, OH.
Miltronics, Inc | Painesville, OH.
Milwaukee Precision Corporation | Milwaukee, WI.
Milwaukee Punch Corporation | Greendale, WI.
Minco Tool & Mold Inc | Dayton, OH.
Mission Tool & Manufacturing Co. | Hayward, CA.
Mitchell Machine, Inc | Springfield, MA.
Mitchum Schaefer, Inc | Indianapolis, IN.
Mittler Brothers Machine & Tool | Foristell, MO.
Mod Tech Industries, Inc | Shawano, WI.
Model Machine Company, Inc | Baltimore, MD.
Model Mold & Machine Company, | Noblesville, IN.
Modern Industries Inc | Phoenix, AZ.
Modern Machine Company | San Jose, CA.
Modern Machine Company | Bay City, MI.
Modern Mold, Inc | Grand Rapids, MI.
Modern Technologies Corp. | Xenia, OH.
Modular Mining Systems, Inc | Tucson, AZ.
Mold Threads, Inc | Branford, CT.
Moldcraft, Inc | Depew, NY.
Monks Manufacturing Co., Inc | Wilmington, MA.
Monsees Tool & Die, Inc | Rochester, NY.
Montgomery Machine Company | Houston, TX.
Moon Tool & Die, Inc | Conneaut Lake, PA.
Moore Gear Mfg. Co., Inc | Hermann, MO.
Moore Machine, Inc | Walkerton, IN.
Moore Quality Tooling, Inc | Dayton, OH.
Morlin Incorporated | Erie, PA.
Morris Machine Co., Inc | Indianapolis, IN.
Morton & Company, Inc | Wilmington, MA.
Moseys' Production Machinists | Anaheim, CA.
Moss Machine/Module | San Francisco, CA.
Motor Machine Co., Inc | Edison, NJ.
Mountain States Automation, Inc | Englewood, CO.
Mt. Sterling Industries | Mt. Sterling, KY.
MTI Engineering Corp./Mitutoyo | Huntington Beach, CA.
Mueller Machine & Tool Company | Berkeley, MO.
Muller Tool, Inc | Cheektowaga, NY.
Multi Dimensional Machining Inc | Englewood, CO.
Multi-Tool, Inc | Saegertown, PA.
Mustang-Major Tool & Die Co | Eden, NY.
Mutual Precision, Inc | West Springfield, MA.
Mutual Tool & Die, Inc | Dayton, OH.
Myers Industries | Akron, OH.
MyersPrecision Grinding Company | Warrensville Hts., OH.
Myles Tool Co., Inc | Sanborn, NY.
N C Dynamics, Inc | Long Beach, CA.
N D T Industries, Inc | Dayton, OH.
N E T & Die Company, Inc | Fulton, NY.
Nashville Machine Company, Inc | Nashville, TN.
National Carbide Die | McKeesport, PA.
National Jet Company, Inc | LaVale, MD.
National Tool & Machine Co. Inc | East St. Louis, IL.
Nationwide Precision Products | Rochester, NY.
Neal Manufacturing, Inc | Greensboro, NC.
Nel-Mac Tool & Mfg. Inc | McKinney, TX.
Nelson Bros. & Strom Co., Inc | Racine, WI.
Nelson Engineering | Garden Grove, CA.
Nelson Grinding, Inc | Fullerton, CA.
Nelson Precision Drilling Co | Glastonbury, CT.
Nemes Machine Co | Cuyahoga, OH.
Nerjan Development Company | Stamford, CT.
Neutronics, Inc | Phoenix, AZ.
New Age Plastics, Inc | San Jose, CA.
New Century Fabricators, Inc | New Iberia, LA.
New Century Remanufacturing, Inc | Santa Fe Springs, CA.
New Coy Fabrication, Inc | Rochester, NY.
New England Die Co., Inc | Waterbury, CT.
New Standard Corporation | York, PA.
Newman Machine Company, Inc | Greensboro, NC.
Newton Tool & Manufacturing Co | Swedesboro, NJ.
Niagara Punch & Die Corporation | Buffalo, NY.
Nifty Bar, Inc | Penfield, NY.
Niles Machine & Tool Works, Inc | Livermore, CA.
Nixon Tool Co., Inc | Richmond, IN.
Noble Tool Corporation | Dayton, OH.
Norbert Industries, Inc | Sterling Heights, MI.
Nordon Tool & Mold, Inc | Rochester, NY.
Norman , Inc | Cleveland, OH.
Normike Industries, Inc | Plainville, CT.
North Canton Tool Company, Inc | Canton, OH.
North Central Tool & Die, Inc | Houston, TX.
North Coast Tool & Mold Corp | Cleveland, OH.
North Easton Machine Co., Inc | North Easton, MA.
North Florida Tool Engineering | Jacksonville, FL.
Northeast E D M | Newburyport, MA.
Northeast Manufacturing Co., Inc | Stoneham, MA.
Northeast Tool & Manufacturing | Indian Trail, NC.
Northern Machine Tool Company | Muskegon, MI.
Northland Extension Drills | Grove City, MN.
Northmont Tool & Gage Inc | Clayton, OH.
Northwest Machine Works, Inc | Grand Junction, CO.
Northwest Tool Corporation | Tucson, AZ.
Northwest Tool & Die, Inc | Saegertown, PA.
Northwest Tool & Die Company | Grand Rapids, MI.
Northwood Industries, Inc | Perrysburg, OH.
Norv's Molds, Inc | Nyssa, OR.
Norwood Tool Company | Dayton, OH.
Nova Manufacturing Company | North Hollywood, CA.
Now-Tech Industries Inc | Lackawanna, NY.
Nu-Tool Industries, Inc | North Royalton, OH.
Nu-Tech Industries | Grandview, MO.
Numeric Machine | Fremont, CA.
Numeric Machining Co., Inc | West Springfield, MA.
Numerical Precision, Inc | Wheeling, IL.
Numerical Productions, Inc | Indianapolis, IN.
Numet Machine | Stratford, CT.
NuTec Tooling Systems, Inc | Meadville, PA.
O & S Machine Company, Inc | Latrobe, PA.
O-A, Inc | Agawam, MA.
OEM Controls Inc | Shelton, CT.
O E M Industries, Inc | Dallas, TX.
O E M, Inc | Corvallis, OR.
O-D Tool & Cutter Inc | Mansfield, IvIA.
O'Keefe Ceramics | Woodland Park, CO.
O'Neal Tool & Machine Co., Inc | DeSoto, MO.
Oakley Die & Mold Company, Inc | Mason, OH.
Obars Machine & Tool Company | Toledo, OH.
Oberg Industries Inc | Freeport, PA.
Oconee Machine & Tool Company | Westminster, SC.
Oconnor Engineering Laboratories | Costa Mesa, CA.
Ohio Gasket & Shim Company | Akron, OH.
Ohio Transitional Machine & Tool | Toledo, OH.
Ohlemacher Mold & Die | Strongsville, OH.
Oilfield Die Manufacturing Co | Lafayette, LA.
Okuma America Corporation | Charlotte, NC.
Olson Mfg. & Distribution Inc | Shawnee, KS.
Omax Corporation | Kent, WA.
Omega One, Inc | Maple Heights, OH.
Omega Tool, Inc | Menomonee Falls, WI.
Omni Tool, Inc | Winston Salem, NC.
Orenda National Aerospace, LLC | Glendale, AZ.
Osborn Products, Inc | Phoenix, AZ.
Osley & Whitney, Inc | Westfield, MA.
Overland Boiling | Dallas, TX.
Overton & Sons Tool & Die Co | Mooresville, IN.
Overton Corporation | Willoughby, OH.
P & N Machine Company, Inc | Houston, TX.
P & P Mold & Die, Inc | Tallmadge, OH.
P & A Tool & Die, Inc | Rochester, NY.
P & R Industries, Inc | Rochester, NY.
PDQ Machine, Inc | Machesney Park, IL.
PDT Tooling, Inc | Lincolnshire, IL.
P. J. M. Machine Inc | North Canton, OH.
PMR, Inc | Avon, OH.
PR Machine Works, Inc | Mansfield, OH.
P. Tool & Die Company, Inc | N. Chili, NY.
P-K Tool & Manufacturing Company | Chicago, IL.
Pacific Bearing Company | Rockford, IL.
Pacific Precision Machine, Inc | San Carlos, CA.
Pacific Tool & Die, Inc | Brunswick, OH.
Pahl Tool Services | Cleveland, OH.
Palma Tool & Die Company, Inc | Lancaster, NY.
Palmer Machine Company Inc | Conway, NH.
Palmer Manufacturing Company | Maiden, MA.
Parallax, Inc | Largo, FL.
Paramount Machine & Tool Corp | Fairfield, NJ.
Park Hill Machine, Inc | Lancaster, PA.
Parker Plastics Corporation | Pittsburgh, PA.
Parr-Green Mold and Machine Co | North Canton, OH.
Parris Tool & Die Company | Goodlettsville, TN.
Parrish Machine, Inc | South Bend, IN.
Pasco Tool & Die, Inc | Meadville, PA.
Patco Machine & Fab, Inc | Houston, TX.
Path Technologies, Inc | Mentor, OH.
Patkus Machine Company | Rockford, IL.
Patriot Machine, Inc | St. Charles, MO.
Patriot Precision Products | North Canton, OH.
Patten Tool & Engineering, Inc | Kittery, ME.
Paul E. Seymour Tool & Die Co | North East, PA.
Peerless Precision, Inc | Westfield, MA.
Peffen Machine Company | Nashville, TN.
Peko Precision Products | Rochester, NY.
Pell Engineering & Manufacturing | Peiham, NH.
Penco Precision | Fontana, CA.
Pendleton Tool Company, Inc | Erie, PA.
Peninsula Screw Machine Products | Belmont, CA.
Penn State Tool & Die Corp | North Huntingdon, PA.
Penn United Tech, Inc | Saxonburg, PA.
Pennoyer-Dodge Company | Glendale, CA.
Pennsylvania Crusher | Cuyahoga Falls, OH.
Pennsylvania Tool & Gages, Inc | Meadville, PA.
Perfection Mold & Machine Co | Akron, OH.
Perfection Tool & Mold Corp | Dayton, OH.
Perfecto Tool & Engineering Co | Anderson, IN.
Perfekta, Inc | Wichita, KS.
Performance Grinding | Tempe, AZ.
Performance Machining, Inc | Irwin, PA.
Perry Tool & Research, Inc | Hayward, CA.
Petersen Precision Engineering, LLC | Redwood City, CA.
F H Peterson Machine Corporation | Stoughton, MA.
Peterson Jig & Fixture, Inc | Rockford, MI.
Petro-Chem Industries, Inc | Stafford, TX.
Pettey Machine Works, Inc | Trinity, AL.
Petty Enterprises | Hollister, CA.
Phil-Coin Machine & Tool Co | Hudson, MA.
Philips Enabling Technologies Group | South Plainfield, NJ.
Philips Machining Company, Inc | Coopersville, MI.
Phoenix Gear, Inc | Phoenix, AZ.
Phoenix Grinding | Phoenix, AZ.
Phoenix Tool & Gage, Inc | Phoenix, AZ.
Phoenix, Inc | Seekonk, MA.
Piece-Maker Company | Troy, MI.
Pierce Products, Inc | Cleveland, OH.
Pierson Precision, Inc | Campbell, CA.
Pinehurst Tool & Die | Conneaut Lake, PA.
Pinnacle Engineering Co., Inc | Manchester, MI.
Pinnacle Manufacturing Co., Inc | Chandler, AZ.
Pioneer Industries | Seattle, WA.
Pioneer Precision Grinding, Inc | West Springfield, MA.
Pioneer Tool & Die Company | Akron, OH.
Pioneer Tool & Die, Inc | Meadville, PA.
Pioneer Tool Die & Machine Co | Ivyland, PA.
Pitt-Tex | Latrobe, PA.
Plainfield Stamping Illinois, Inc | Plainfield, IL.
Piano Machine & Instrument Inc | Gainesville, TX.
Plas Tool Co | Niles, IL.
Plastic Mold Technology Inc | Grand Rapids, MI.
Plastipak Packaging, Inc | Medina, OH.
Plating Technology, Inc | Columbus, OH.
Pleasant Precision, Inc | Kenton, OH.
Plesh Industries, Inc | Buffalo, NY.
Pocal Industries Inc | Scranton, PA.
Pol-Tek Industries, Ltd | Cheektowaga, NY.
Polynetics, Inc | Fullerton, CA.
Polytec Products Corporation | Menlo Park, CA.
Ponderosa Industries, Inc | Denver, CO.
Popp Machine & Tool, Inc | Louisville, KY.
Port City Machine & Tool Company | Muskegon Heights, MI.
Portage Knife Company, Inc | Mogadore, OH.
Post Products, Inc | Kent, OH.
Powder Metallurgy Company | Lewisville, TX.
Powers Bros. Machine, Inc | Montebello, CA.
Powill Manufacturing | Phoenix, AZ.
PQ Enterprise, L.L.C | Grand Rapids, MI.
Practical Machine Company | Barberton, OH.
Pre Tech Manufacturing | Schaumburg, IL.
Pre-Mec Corporation | Clinton Township, MI.
Precise Products Corporation | Minneapolis, MN.
Precise Technologies Inc | Largo, FL.
Precise Tool & Die, Inc | Leechburg, PA.
Precision Aircraft Components | Dayton, OH.
Precision Aircraft Machining | Sun Valley, CA.
Precision Automated Machining | Englewood, CO.
Precision Automation Co., Inc | Clarksville, IN.
Precision Balancing & Analyzing | Mentor, OH.
Precision Boring Company | Detroit, MI.
Precision Deburring Enterprises | Sun Valley, CA.
Precision Die & Stamping Inc | Tempe, AZ.
Precision Engineering, Inc | Uxbridge, MA.
Precision Engineering & Mfg. Co | Haymarket, VA.
Precision Gage & Tool Company | Dayton, OH.
Precision Gage, Inc | Tempe, AZ.
Precision Grinding & Mfg. Corp | Rochester, NY.
Precision Grinding, Inc | Birmingham, AL.
Precision Grinding, Inc | Phoenix, AZ.
Precision Identity Corporation | Campbell, CA.
Precision Industries, Inc | Providence, RI.
Precision Industries, Inc | Baton Rouge, LA.
Precision Machine & Instrument | Houston, TX.
Precision Machine & Tool Co | Longview, TX.
Precision Machine & Engineering | Phoenix, AZ.
Precision Machine Rebuilding | Rogers, MN.
Precision Machine Company | Lancaster, PA.
Precision Manufacturing | Grand Junction, CO.
Precision Metal Crafters, Ltd | Greensburg, PA.
Precision Metal Fabrication | Dayton, OH.
Precision Metal Tooling, Inc | San Leandro, CA.
Precision Mold & Engineering | Warren, MI.
Precision Mold Base Corporation | Tempe, AZ.
Precision Mold Welding, Inc | Little Rock, AR.
Precision Mold, Inc | Kent, WA.
Precision Piece Parts Inc | Mishawaka, IN.
Precision Products Inc | Greenwood, IN.
Precision Resource | Huntington Beach, CA.
Precision Resource Tool & Machine | Shelton, CT.
Precision Resources | Hawthorne, CA.
Precision Specialties | San Jose, CA.
Precision Specialists, Inc | West Berlin, NJ.
Precision Stamping & Tool, Inc | Irvine, CA.
Precision Stamping, Inc | Farmers Branch, TX.
Precision Technology, Inc | Chandler, AZ.
Precision Tool & Die, Inc | Derry, NH.
Precision Tool Work, Inc | New Iberia, LA.
Precision Tool & Mold, Inc | Clearwater, FL.
Precision Wire EDM Service Inc | Grand Rapids, MI.
Precision Wire Cut Corporation | Waterbury, CT.
Preferred Grinding Co., Inc | Dallas, TX.
Preferred Tool & Die Co., Inc | Comstock Park, MI.
Preferred Tool Company, Inc | Seymour, IN.
Prescott Aerospace, Inc | Prescott Valley, AZ.
Pressco Products | Kent, WA.
Prestige Mold Incorporated | Rancho Cucamonga, CA.
Price Products, Inc | Escondido, CA.
Pride | Champlin, MN.
Prima Die Castings, Inc | Clearwater, FL.
Prime-Co Tool Inc | East Rochester, NY.
Primeway Tool & Engineering Co | Madison Heights, MI.
Pro-Tech Machine, Inc | Burton, MI.
Pro-Mold, Inc | Spencerport, NY.
Process Equipment Company | Tipp City, OH.
Product Engineering Company | Columbus, IN.
Production Saw Works, Inc | North Hollywood, CA.
Production Tool & Mfg. Co | Portland, OR.
Producto Machine Company | Bridgeport, CT.
Professional Grinding, Inc | Akron, OH.
Professional Instruments Co., Inc | Hopkins, MN.
Professional Machine & Tool, Inc | Valley Center, KS.
Professional Machine & Tool Co | Gallatin, TN.
Proficient Machining Co., Inc | Mentor, OH.
Profile Grinding, Inc | Cleveland, OH.
Proformance Manufacturing, Inc | Corona, CA.
Progressive Concepts Machining | Pleasanton, CA.
Progressive Metallizing | Akron, OH.
Progressive Tool Company | Waterloo, IA.
Progressive Tool & Die, Inc | Meadville, PA.
Progressive Tool & Die, Inc | Gardena, CA.
Promax Tool Co. | Rancho Cordova, CA.
ProMold, Inc | Cuyahoga Falls, OH.
Prompt Machine Products, Inc | Chatsworth, CA.
Proper Cutter, Inc | Guys Mills, PA.
Proper Mold & Engineering, Inc | Center Line, MI.
Proteus Manufacturing Co., Inc | Woburn, MA.
Proto-Design, Inc | Redmond, WA.
Proto Machine & Manufacturing | Kent, OH.
Proto-Cam, Inc | Grand Rapids, MI.
Protonics Engineering Corp | Cerritos, CA.
Prototype & Plastic Mold Co | Middietown, CT.
Puehier Tool Company | Valley View, OH.
Pulibrite, Inc | Fremont, CA.
Punch Press Products, Inc | Los Angeles, CA.
Punchcraft Company—Subsidiary of | Warren, MI.
Q K Mold & Manufacturing, Inc | Kent, OH.
Q M C Technologies, Inc | Depew, NY.
Qualfab Machining | Redwood City, CA.
Quality Centerless Grinding Corp | Middlefield, CT.
Quality Engineering Services | Wallingford, CT.
Quality Grinding & Machining | Bridgeport, CT.
Quality Machine Engineering, Inc | Santa Rosa, CA.
Quality Machining Technology, Inc | Oakdale, CA.
Quality Mold & Die, Inc | Santa Ana, CA.
Quality Mold & Engineering | Baroda, MI.
Quality Mold Shop, Inc | McMinnville, TN.
Quality Precision, Inc | Hayward, CA.
Quality Tool Company | Toledo, OH.
Quantum Manufacturing, Inc | Burbank, CA.
Quick-Way Stampings | Euless, TX.
R & D Machine Shop | Dallas, TX.
R & D Specialty/Manco | Phoenix, AZ.
R & D Tool & Engineering | Lee's Summit, MO.
R & G Precision Tool Inc | Thomaston, CT.
R & H Manufacturing Inc | Kingston, PA.
R & J Tool, Inc | Brookville, OH.
R & M Machine Tool | Freeland, MI.
R & M Manufacturing Company | Niles, MI.
R & M Mold Manufacturing Co | Bloomsbury, NJ.
R & R Precision Machine, Inc | Wichita, KS.
R & S EDM, Inc | W. Springfield, MA.
R & S Machining, Inc | Oakville, MO.
RB Machine Co., Inc | Phoenix, AZ.
R D C Machine, Inc | Santa Clara, CA.
R Davis EDM | Anaheim, CA.
R E F Machine Company, Inc | Middlefield, CT.
REO Hydro-Pierce Inc | Detroit, MI.
R G F Machining Technologies | Canon City, CO.
R J S Corporation | Akron, OH.
R M I | Van Nuys, CA.
R 0 C Carbon Company | Houston, TX.
R S Precision Industries, Inc | Farmingdale, NY.
P. T R Slotting & Machine Inc | Cuyahoga Falls, OH.
RTS Wright Industries, Inc | Nashville, TN.
R W Machine, Inc | Houston, TX.
P. W. Smith Company, Inc | Dallas, TX.
B. Radtke & Sons, Inc | Round Lake Park, IL.
Rainbow Tool & Machine Co., Inc | Gadsden, AL.
Rabid Corporation | Reisterstown, MD.
Ram Tool, Inc | Grafton, WI.
Ranger Tool & Die Company | Saginaw, MI.
Rapid-Line Inc | Grand Rapids, MI.
Rapidac Machine Corporation | Rochester, NY.
Ratnik Industries, Inc | Victor, NY.
Rawlings Engineering | Macon, GA.
Ray Paradis Machine, Inc | Jackson, CA.
Re-Del Engineering | Campbell, CA.
Realco Diversified, Inc | Meadville, PA.
Reardon Machine Co., Inc | St. Joseph, MO.
Reber Machine & Tool Company | Muncie, IN.
Rectack of America | Los Angeles, CA.
Reed Instrument Company | Houston, TX.
Reese Machine Company, Inc | Ashtabula, OH.
Reichert Stamping Company | Toledo, OH.
Reid Industries, Inc | Roseville, MI.
Reitz Tool & Die Company, Inc | Walbridge, OH.
Reitz Tool, Inc | Cochranton, PA.
Reliable EDM, Inc | Houston, TX.
Remarc Manufacturing Inc | Hayward, CA.
Remmele Engineering, Inc | St. Paul, MN.
Remtex, Inc | Longview, TX.
Reny & Company Inc | El Monte, CA.
Repairtech International, Inc | Van Nuys, CA.
Repko Tool Inc | Meadville, PA.
Republic Industries | Louisville, KY.
Republic-Lagun | Carson, CA.
Research Tool, Inc | East Haven, CT.
Reuther Mold & Manufacturing Co | Cuyahoga Falls, OH.
Reynolds Manufacturing Co., Inc | Rock Island, IL.
Rhode Island Centerless, Inc | Johnston, RI.
Rich Tool & Die Company | Scarborough, ME.
Richard Manufacturing Company | Milford, CT.
Richard 0. Schulz Company | Elmwood Park, IL.
Richard Tool & Die Corporation | New Hudson, MI.
Richard's Grinding, Inc | Cleveland, OH.
Richards Machine Tool Company | Lancaster, NY.
Richsal Corporation | Elyria, OH.
Rick Sanford Machine Company | San Leandro, CA.
Rid-Lom Precision Tool Corp | Rochester, NY.
Ridge Machine & Welding Company | Toronto, OH.
Riggins Engineering, Inc | Van Nuys, CA.
Right Tool & Die, Inc | Toledo, OH.
Rima Enterprises | Huntington Beach, CA.
Rite-Way Industries, Inc | Louisville, KY.
Riverview Machine Company, Inc | Holyoke, MA.
Riviera Tool Company | Grand Rapids, MI.
Robert C. Reetz Company, Inc | Pawtucket, RI.
Roberts Aerospace Mfg. & Eng | Gardena, CA.
Roberts Tool & Die Company | Chillicothe, MO.
Roberts Tool Company, Inc | Northridge, CA.
Robrad Tool & Engineering | Mesa, AZ.
Rochester Gear, Inc | Rochester, NY.
Rochester Manufacturing | Wellington, OH.
Rockburl Industries, Inc | Rochester, NY.
Rockford Process Control, Inc | Rockford, IL.
Rockford Tool & Manufacturing | Rockford, IL.
Rockford Toolcraft, Inc | Rockford, IL.
Rockhill Machining Industries | Barberton, OH.
Rockstedt Tool & Die | Brunswick, OH.
Rocon Manufacturing Corporation | Rochester, NY.
Rogers Associates Machine Tool | Rochester, NY.
Romac Electronics, Inc | Plainview, NY.
Romold Inc | Rochester, NY.
Ron Grob Company | Loveland, CO.
Ronart Industries, Inc | Detroit, MI.
Ronlen Industries, Inc | Brunswick, OH.
Rons Racing Products, Inc | Tucson, AZ.
Royal Wire Products, Inc | N. Royalton, OH.
Royalton Manufacturing, Inc | Cleveland, OH.
Royster's Machine Shop, LLC | Henderson, KY.
Rozal Industries, Inc | Farmingdale, NY.
RREN Manufacturing & Engineering | Springfield, MA.
Rubbermaid, Inc., Mold Division | Wooster, OH.
Ruoff & Sons, Inc | Runnemede, NJ.
Russing Machining Corp | Glendale, CA.
Ryan Industries Inc | York, PA.
S & B Tool & Die Co., Inc | Lancaster, PA.
S & R CNC Machining | Arleta, CA.
S & R Precision Company, LLC | Fremont, CA.
S & S Precision Company, LLC | San Jose, CA.
S. C. Machine | Chatsworth, CA.
S C Manufacturing | Akron, OH.
S D S Machine, Inc | Hayward, CA.
S G S Tool Company | Munroe Falls, OH.
S L P Machine, Inc | Ham Lake, MN.
S M K Fabricators, Inc | May, TX.
S P M/Anaheim | Anaheim, CA.
S P S Technologies | Santa Ana, CA.
Saeibo Manufacturing Industries | Blauvelt, NY.
Sage Machine & Fabricating | Houston, TX.
Sagehill Engineering, Inc | Menlo Park, CA.
Saginaw Products Corporation | Saginaw, MI.
Salomon Smith Barney | Washington, DC.
Samax Precision, Inc | Sunnyvale, CA.
San Diego Swiss Machining, Inc | Chula Vista, CA.
Sanders Tool & Mould Company | Hendersonville, TN.
Sandor Tool & Manufacturing Co | Lawrence, MA.
Sandy Bay Machine | Rockport, MA.
Santin Engineering, Inc | West Peabody, MA.
Sattler Machine Products, Inc | Sharon Center, OH.
Sawing Services Co | Chatsworth, CA.
Sawtech | Lawrence, MA.
Schaffer Grinding Company, Inc | Montebello, CA.
Schill Corp | Toledo, OH.
Schlitter Tool | Warren, MI.
Schmald Tool & Die, Inc | Burton, MI.
Schmiede Corporation | Tullahoma, TN.
Schneider & Marguard, Inc | Newton, NJ.
Schober's Machine & Engineering | Alhambra, CA.
Schoitz Engineering, Inc | Waterloo, IA.
Schroeder Tool & Die Corporation | Van Nuys, CA.
Schuetz Tool & Die, Inc | Hiawatha, KS.
Schulze Tool Company | Independence, MO.
Schwab Machine, Inc | Sandusky, OH.
Schwartz Industries, Inc | Warren, MI.
Scott County Machine & Tool Co | Scottsburg, IN.
Seabury & Smith, Inc | Miami, FL.
Sebewaing Tool & Engineering Co | Sebewaing, MI.
Seemcor Inc | Englewood, NJ.
Albert Seisler Machine Corp | Mohnton, PA.
Select Industrial Systems Inc | Fairborn, OH.
Select Tool & Eng., Inc | Elkhart, IN.
Select Tool & Die Tool Div | Dayton, OH.
SelfLube | Coopersville, MI.
Selzer Tool & Die, Inc | Elyria, OH.
Sematool Mold & Die Co | Santa Clara, CA.
Serrano Industries Inc | Santa Fe Springs, CA.
Service Manufacturing and | Anaheim, CA.
Service Tool & Die, Inc | Henderson, KY.
Setters Tools, Inc | Piedmont, SC.
Sharon Center Mold & Die | Sharon Center, OH.
Shaw Industries, Inc | Franklin, PA.
Shear Tool, Inc | Saginaw, MI.
Sheets Tool & Manufacturing, Inc | Saegertown, PA.
Shelby Engineering Company, Inc | Indianapolis, IN.
Sherer Manufacturing | Clearwater, FL.
Sherlock Machine Company | Clearwater, FL.
The Sherman Corporation | Inglewood, CA.
Sherman Tool & Gage | Erie, PA.
Shiloh Industries | Wellington, OH.
Shookus Special Tools, Inc | Raymond, NH.
Shop Tech Industrial Software Corp | Rocky Hill, CT.
Sibley Machine & Foundry Corp | South Bend, IN.
Sieger Engineering, Inc | S. San Francisco, CA.
Sigma Precision Mfg., Inc | Aston, PA.
Signa Molds & Engineering | Sylmar, CA.
Signal Machine Company | New Holland, PA.
Silicon Valley Mfg | Fremont, CA.
Sipco, Inc | Meadville, PA.
Sirius Enterprises, Inc | Dallas, TX.
Six Sigma | Louisville, KY.
Ski-Way Machine Products Company | Euclid, OH.
Skillcraft Machine Tool Company | West Hartford, CT.
Skulsky, Inc | Gardena, CA.
Skyfab, Inc | Denton, TX.
Skyline Manufacturing Corp | Nashville, TN.
Skylon Mold & Machining | Sugar Grove, PA.
Skyway Manufacturing Corporation | Phoenix, AZ.
Smith-Renaud, Inc | Cheshire, CT.
Smith's Machine | Cottondale, AL.
Smithfield Manufacturing, Inc | Clarksville, TN.
Snyder Systems | Benicia, CA.
Solar Tool & Die, Inc | Kansas City, MO.
Sonic Machine & Tool, Inc | Tempe, AZ.
Sonoma Precision Mfg. Co | Santa Rosa, CA.
Sonora Precision Molds, Inc | Mi Wuk Village, CA.
South Bay Machining | Santa Clara, CA.
South Bend Form Tool Company | South Bend, IN.
South Eastern Machining, Inc | Piedmont, SC.
Southampton Manufacturing, Inc | Feasterville, PA.
Southeastern Technology, Inc | Murfreesboro, TN.
Southern Mfg. Technologies, Inc | Tampa, FL.
Southwest Industrial Services | Ft. Worth, TX.
Southwest Manufacturing, Inc | Wichita, KS.
Southwest Metalcraft Corporation | Tucson, AZ.
Southwest Mold, Inc | Tempe, AZ.
Space City Machine & Tool Co | Houston, TX.
Spalding & Day Tool & Die Co | Louisville, KY.
Spark Technologies, Inc | Schenley, PA.
Spartak Products, Inc | Houston, TX.
Spartan Manufacturing Company | Garden Grove, CA.
Specialty Machine & Hydraulics | Pleasantville, PA.
Spenco Machine & Manufacturing | Temecula, CA.
Spike Industries | North Lima, OH.
Spin Pro Inc | Sunnyvale, CA.
Spiral Grinding Company | Culver City, CA.
Spirex Southwest | Gainesville, TX.
Springfield Tool & Die, Inc | Greenville, SC.
Sprint Tool & Die, Inc | Meadville, PA.
Spun Metals, Inc | Phoenix, AZ.
St. Louis Tool & Mold | Valley Park, MO.
Stadco | Los Angeles, CA.
Standard Jig Boring Service, Inc | Akron, OH.
Standard Machine Inc | Cleveland, OH.
Standard Welding & Steel | Medina, OH.
Stanek Tool Corporation | New Berlin, WI.
Stanley Machining & Tool Corp | Carpentersville, IL.
Star Tool & Die, Inc | Elkhart, IN.
Star Tool & Engineering, Inc | Redwood City, CA.
Starn Tool & Manufacturing Co | Meadville, PA.
State Industrial Products, Inc | Phoenix, AZ.
Stauble Machine & Tool Company | Louisville, KY.
Stelted Manufacturing, Inc | Tempe, AZ.
Sterling Engineering Corporation | Winsted, CT.
Sterling Tool Company | Racine, WI.
Stevens Manufacturing Co., Inc | Milford, CT.
Stewart Manufacturing Company | Phoenix, AZ.
Stieg Grinding Corporation | Rockford, IL.
Stillion Industries | Ann Arbor, MI.
Stillwater Technologies, Inc | Troy, OH.
Stines' Machine, Inc | Vista, CA.
Ralph Stockton Valve Products | Houston, TX.
Stoney Crest Regrind Service | Bridgeport, MI.
Strobel Machine, Inc | Worthington, PA.
Studwell Engineering, Inc | Sun Valley, CA.
Subsea Ventures, Inc | Houston, TX.
Suburban Manufacturing Company | Euclid, OH.
The Sullivan Corporation | Hartland, WI.
Summit Machine Company | Scottdale, PA.
Summit Precision, Inc | Phoenix, AZ.
Sun Polishing Corporation | North Royalton, OH.
Sun Tool Company | Houston, TX.
Sun Valley Tool, Inc | Tempe, AZ.
Sunbelt Plastics, Inc | Frisco, TX.
Sunrise Tool & Die, Inc | Henderson, KY.
Sunset Tool, Inc | Saint Joseph, MI.
Super Finishers II | Phoenix, AZ.
Superior Die Set Corporation | Oak Creek, WI.
Superior Die Tool Machine Co | Columbus, OH.
Superior Gear Box Company | Stockton, MO.
Superior Jig, Inc | Anaheim, CA.
Superior Mold Company | Ontario, CA.
Superior Mold, Inc | Clearwater, FL.
Superior Roll Forming Company | Valley City, OH.
Superior Thread Rolling Company, Inc | Arleta, CA.
Superior Tool & Die Company | Bensalem, PA.
Superior Tool & Die Company, Inc | Elkhart, IN.
Superior Tool, Inc | Willow Street, PA.
Supreme Tool & Die Company | Fenton, MO.
Surface Manufacturing | Auburn, CA.
Svedala Pumps & Process | Colorado Springs, CO.
Swiss Wire E D M | Costa Mesa, CA.
Swissco, Inc | Bell Gardens, CA.
Synergis Technologies Group | Grand Rapids, MI.
Synergy Machine, Inc | Kent, WA.
Syst-A-Matic Tool & Design | Meadville, PA.
Systems 3, Inc | Tempe, AZ.
T & S Industrial Machining Corp | Woburn, MA.
TCI Aluminum North | Hayward, CA.
T C I Precision Metals | Gardena, CA.
T J Tool and Mold | Guys Mills, PA.
T-K & Associates, Inc | La Porte, IN.
T M Industries, Inc | East Berlin, CT.
T M Machine & Tool, Inc | Toledo, OH.
T M S Inc | Lincoln, RI.
T-M Manufacturing Corporation | Sunnyvale, CA.
TAE Corporation | Kent, WA.
Tag Engineering, Inc | Tucson, AZ.
Tait Design & Machine Company, Inc | Manheim, PA.
Talbar, Inc | Meadville, PA.
Talcott Machine Products, Inc | Meriden, CT.
Talent Tool & Die, Inc | Berea, OH.
Tana Corporation | Toledo, OH.
Tangent Tool, Inc | Fraser, MI.
Tanner Oil Tools Inc | Houston, TX.
Tapco USA, Inc | Loves Park, IL.
Taurus Tool & Engineering, Inc | Muncie, IN.
Tebben Enterprises | Clara City, MN.
Tech-Etch, Inc | Plymouth, MA.
Tech Industries, Inc | Cleveland, OH.
Tech Manufacturing Company | Wright City, MO.
Tech Mold, Inc | Tempe, AZ.
Tech Ridge, Inc | South Chelmsford, MA.
Tech Tool & Mold, Inc | Meadville, PA.
Tech Tool and Machine Inc | Toledo, OH.
Tech Tool, Inc | Detroit, MI.
Tech-Machine, Inc | Colorado Springs, CO.
Techmetals, Inc | Dayton, OH.
Techni-Cast Corporation | South Gate, CA.
Techni-Products, Inc | East Longmeadow, MA.
Technics 2000 Inc | Olathe, KS.
Technodic, Inc | Providence, RI.
TecoMetrix, LLC | Tempe, AZ.
Tedco, Inc | Cranston, RI.
Teke Machine Corp | Rochester, NY.
Tell Tool, Inc | Westfield, MA.
Temco Corporation | Danvers, MA.
Tenk Machine & Tool Company | Cleveland, OH.
Tennessee Metal Works, Inc | Nashville, TN.
Tennessee Tool Corporation | Charlotte, TN.
Terrell Manufacturing Inc | Strongsville, OH.
Testand Corporation | Pawtucket, RI.
Tetco, Inc | Plainville, CT.
Teter Tool & Die, Inc | La Porte, IN.
Texas Honing, Inc | Pearland, TX.
Thaler Machine Company | Dayton, OH.
The Goforth Corp | Fremont, CA.
Therm, Inc | Ithaca, NY.
Thiel Tool & Engineering Co | St. Louis, MO.
Thomas Machine Works, Inc | Newburyport, MA.
Pleasanton Tool and Manufacturing | Pleasanton, CA.
Thompson Gundrilling, Inc | Van Nuys, CA.
Thor Tool Corporation | San Leandro, CA.
Thornhurst Manufacturing, Inc | Tampa, FL.
Three-Way Pattern, Inc | Wichita, KS.
Time Machine & Stamping, Inc | Phoenix, AZ.
The Timken Company | Canton, OH.
Timon Tool & Die Co | Toledo, OH.
Tipco Punch, Inc | Hamilton, OH.
Tipp Machine & Tool, Inc | Tipp City, OH.
Tisza Industries, Inc | Niles, MI.
Titan, Inc | Sturtevant, WI.
TLT-Babcock, Inc | Akron, OH.
TMK Manufacturing Inc | Campbell, CA.
Toledo Blank, Inc | Toledo, OH.
Toledo Molding & Die Inc | Toledo, OH.
Tolerance Masters, Inc | Circle Pines, MN.
Tomak Precision | Lebanon, OH.
TomKen Tool & Engineering, Inc | Muncie, IN.
Tool Gauge & Machine Works, Inc | Tacoma, WA.
Tool Mate Corporation | Cincinnati, OH.
Tool Specialties Company | Hazelwood, MO.
Tool Specialty Company | Los Angeles, CA.
Tool Steel Service of | Los Angeles, CA.
Tool Tech Corporation | San Jose, CA.
Tool Tech, Inc | Springfield, OH.
Tool Technology, Inc | Danvers, MA.
Tool Technology, Inc | Cookeville, TN.
Tool-Matic Company, Inc | City of Commerce, CA.
Toolcomp Tooling & Components | Toledo, OH.
Toolcraft of Phoenix, Inc | Glendale, AZ.
Toolcraft Products, Inc | Dayton, OH.
Toolex, Inc | Houston, TX.
Tools, Inc | Sussex, WI.
Tools Renewal Company | Birmingham, AL.
Top Tool & Die, Inc | Cleveland, OH.
Top Tool Company | Minneapolis, MN.
Totally Radical Associates, Inc | Placentia, CA.
Toth Industries, Inc | Toledo, OH.
Toth Technologies | Cherry Hill, NJ.
Tower Tool & Engineering, Inc | Machesney Park, IL.
Trace-A-Matic Corporation | Brookfield, WI.
Tracer Tool & Die Company Inc | Grand Rapids, MI.
Trademark Die & Engineering | Belmont, MI.
Tram Tek Inc | Phoenix, AZ.
Trans-World Electric Inc | Port Arthur, TX.
Treblig, Inc | Greenville, SC.
Trec Industries, Inc | Brooklyn Heights, OH.
Tree City Mold & Machine Co., Inc | Kent, OH.
Treffers Precision, Inc | Phoenix, AZ.
Tresco Tool, Inc | Guys Mills, PA.
Tn Craft, Inc | Middleberg Heights, OH.
Tn J Machine Company, Inc | Gardena, CA.
Tn-City Machine Products, Inc | Peoria, IL.
Tn-City Tool & Die, Inc | Bay City, MI.
Tri-M-Mold, Inc | Stevensville, MI.
Tn-Wire, Inc | Rockford, IL.
Triad Plastic Technologies | Reno, NV.
Triangle Mold & Machine Co. Inc | Hartville, OH.
Triangle Tool Company | Erie, PA.
Tricon Machine & Tool, Inc | Rochester, NY.
Tricore Mold & Die | Machesney Park, IL.
Tridecs Corporation | Hayward, CA.
Trident Precision Manufacturing | Webster, NY.
Trig Aerospace | Santa Ana, CA.
Trimac Manufacturing, Inc | Santa Clara, CA.
Trimetric Specialties, Inc | Newark, CA.
Trimline Tool, Inc | Grandville, MI.
Trinity Tools, Inc | North Tonawanda, NY.
Trio Tool & Die, Inc | Hawthorne, CA.
Triple Quality Tool & Die, Inc | Bell, CA.
Triple-T Cutting Tools Inc | West Berlin, NJ.
Triplett Machine, Inc | Phelps, NY.
Triumph Precision, Inc | Phoenix, AZ.
Trojan Mfg. Co. Inc | Piqua, OH.
Trotwood Corporation | Trotwood, OH.
Tru Cut, Inc | Sebring, OH.
Tru Form Manufacturing Corp. | Rochester, NY.
Tru Tool, Inc | Sturtevant, WI.
True Cut EDM Inc | Garland, TX.
True Position, Inc | Chatsworth, CA.
True-Tech Corporation | Fremont, CA.
Trueline Tool & Machine, Inc | Springfield, OH.
Trust Technologies | Willoughby, OH.
Trutron Corporation | Troy, MI.
Tschida Engineering, Inc | Napa, CA.
Tucker Machine Company | North Branford, CT.
Turbo Machine & Tool, Inc | Cleveland, OH.
Turn-Tech, Inc | Decker Prairie, TX.
Turner and Walima Mfg. Co., Inc | Essex, MA.
Turner's Machine Shop | Phoenix, AZ.
Twin City Plating Company | Minneapolis, MN.
Two-M Precision Co., Inc | Willoughby, OH.
Tymar Precision Inc | Santa Clara, CA.
U C 0 Tool & Die, Inc | Union City, OH.
U F E Incorporated | Stillwater, MN.
U M C, Inc | Hamel, MN.
U P Machine & Engineering Co. | Powers, MI.
USAeroteam | Dayton, OH.
U S Machine & Tool, Inc | Murfreesboro, TN.
Uddeholm | Santa Fe Springs, CA.
Ugm, Inc | Santa Clara, CA.
Ultra Precision, Inc | Freeport, PA.
Ultra Stamping & Assembly, Inc | Rockford, IL.
Ultra Tool & Manufacturing, Inc | Menomonee Falls, WI.
Ultra-Tech, Inc | Kansas City, KS.
Ultramation, Inc | Waco, TX.
Ultron | Long Beach, CA.
Uneco Manufacturing, Inc | Chicopee, MA.
Unigraphics Solutions | Brookfield, WI.
Unique Machine Company | Montgomeryville, PA.
Unique Tool & Manufacturing | Randleman, NC.
Unitech, Inc | Kansas City, MO.
United Centerless Grinding | East Hartford, CT.
United Engineering Company | Kernersville, NC.
United Machine Co., Inc | Wichita, KS.
The United Plastics Group, Inc | Ludlow, MA.
United States Fittings, Inc | Warrensville Heights, OH.
United Tool & Engineering Co | South Beloit, IL.
United Tool & Engineering, Inc | Mishawaka, IN.
United Tool & Mold Inc | Holland, MI.
Universal Brixius Inc | Milwaukee, WI.
Universal Custom Process, Inc | Streetsboro, OH.
Universal Precision Products Inc | Akron, OH.
Universal Tool Company | Dayton, OH.
Universal Tools & Manufacturing | Springfield, NJ.
Universe Industries | Irvine, CA.
Upland Fab, Inc | Ontario, CA.
V & M Tool Company, Inc | Perkasie, PA.
V & S Die & Mold, Inc | Lakewood, OH.
V A Machine & Tools, Inc | Broussard, LA.
V Ash Machine Company | Cleveland, OH.
V I Mfg. | Webster, NY.
V P. C, Inc | Berea, OH.
Valley Machine Works, Inc | Phoenix, AZ.
Valley Tool & Die, Inc | North Royalton, OH.
Valley Tool Room, Inc | Phoenix, AZ.
Valv-Trol Company | Stow, OH.
Van Engineering | Cincinnati, OH.
Van Os Machine Works, Inc | St. Louis, MO.
Van Reenen Tool & Die, Inc | Rochester, NY.
Van-Am Tool & Engineering, Inc | St. Joseph, MO.
Vanderveer Industrial Plastics | Placentia, CA.
Vanpro, Inc | Cambridge, MN.
Vaughn Manufacturing Company | Nashville, TN.
Vektek, Inc | Emporia, KS.
Venango Machine Products, Inc | Reno, PA.
Venture Precision Machining Co | Champaign, IL.
Venture Tool, Inc | Erie, PA.
Ver-Sa-Til Associates, Inc | Chanhassen, MN.
VersaTool & Die Machining | Beloit, WI.
Vi-Tec Manufacturing Inc | Livermore, CA.
Viking Tool & Engineering | Whitehall, MI.
Viking Tool & Gage, Inc | Conneaut Lake, PA.
Vistek Precision Machine Company | Ivyland, PA.
Vitron Manufacturing, Inc | Phoenix, AZ.
Vitullo & Associates, Inc | Warren, MI.
Vobeda Machine & Tool Company | Racine, WI.
Vulcan Tool Corporation | Dayton, OH.
W + D Machinery Company, Inc | Overland Park, KS.
W & H Stampings & Fineblanking, Inc | Hauppauge, NY.
W D & J Machine & Engineering Inc | Fullerton, CA.
W E C Technologies Corporation | Amityville, NY.
W G Strohwig Tool & Die, Inc | Richfield, WI.
WSI Industries, Inc | Minneapolis, MN.
W W G, Inc | Indianapolis, IN.
WADKO Precision, Inc | Houston, TX.
Wagner Engineering, Inc | Gilbert, AZ.
Waiteco Machine | Acton, MA.
Wajo Tool and Die, Inc | East Hampstead, NH.
Walker Corporation | Ontario, CA.
Walker Tool & Machine Company | Perrysburg, OH.
Wallner Tooling/Expac, Inc | Rancho Cucamonga, CA.
Waltco Engineering, Inc | Gardena, CA.
Walter Tool & Mfg. Inc | Elgin, IL.
Walter Waukesha, Inc | Waukesha, WI.
Walz & Krenzer, Inc | Rochester, NY.
Warmelin Precision Products | Hawthorne, CA.
Waukesha Tool & Stamping Inc | Sussex, WI.
Wausau Insurance Companies | Wausau, WI.
Wayne Manufacturing, Inc | Boulder, CO.
Webco Machine Products, Inc | Valley View, OH.
Weco Metal Products | Ontario, NY.
Weiss-Aug Co. Inc | East Hanover, NJ.
Wejco Instruments Inc | Houston, TX.
George Welsch & Son Company | Cleveland, OH.
Weltek-Swiss | Englewood, CO.
Wemco Precision Tool, Inc | Meadville, PA.
Wentworth Company | Glastonbury, CT.
Werkema Machine Company, Inc | Grand Rapids, MI.
Wes Products | Madison Heights, MI.
West Hartford Tool & Die Company | Newington, CT.
West Pharmaceutical Services | Erie, PA.
West Tool & Manufacturing, Inc | Cleveland, OH.
West Valley Milling, Inc | Chatsworth, CA.
West Valley Precision Inc | Santa Clara, CA.
Westbrook Manufacturing, Inc | Dayton, OH.
Western Mass. MechTech, Inc | Ware, MA.
Western Steel Cutting, Inc | San Jose, CA.
Western Tap Manufacturing Co | Buena Park, CA.
Westfield Gage Company, Inc | Westfield, MA.
Westfield Tool & Die, Inc | Westfield, MA.
Westlake Tool & Die Mfg. | Avon, OH.
Westtool Inc | Phoenix, AZ.
White Machine, Inc | North Kingstown, RI.
White Machine, Inc | North Royalton, OH.
Whitehead Tool & Design, Inc | Guys Mills, PA.
Wiegel Tool Works, Inc | Wood Dale, IL.
Wightman Engineering Services | Santa Clara, CA.
Wilco Die Tool Machine Company | Maryland Heights, MO.
Wilkinson Mfg., Inc | Santa Clara, CA.
The Will-Burt Company | Orrville, OH.
Willer Tool Corporation | Jackson, WI.
William Sopko & Sons Co., Inc | Cleveland, OH.
Williams Engineering | Chatsworth, CA.
Williams Machine, Inc | Lake Elsinore, CA.
Windsor Tool & Die, Inc | Cleveland, OH.
Winter's Grinding Service | Menomonee Falls, WI.
Wire Cut Company, Inc | Buena Park, CA.
Wire Tech E D M, Inc | Los Alamitos, CA.
WireCut E D M, Inc | Dallas, TX.
Wirecut Technologies Inc | Indianapolis, IN.
Wiretec, Inc | Delmont, PA.
Wisconsin Engraving Company | New Berlin, WI.
Wisconsin Metalworking Machinery | Waukesha, WI.
Wisconsin Mold Builders, LLC | Waukesha, WI.
Wise Machine Co., Inc | Butler, PA.
Wolfe Engineering, Inc | Campbell, CA.
Wolverine Bronze Company | Roseville, MI.
Wolverine Tool & Engineering | Belmont, MI.
Wolverine Tool Company | St. Clair Shores, MI.
Woodruff Corporation | Torrance, CA.
Wright Brothers Welding | Hollister, CA.
Wright Industries, Inc | Gilbert, AZ.
Wright-K Technology, Inc | Saginaw, MI.
X L I Corporation | Rochester, NY.
Yates Tool, Inc | Medina, OH.
Yoder Die Casting Corporation | Dayton, OH.
Youngberg Industries, Inc | Belvidere, IL.
Youngers and Sons Manufacturing | Viola, KS.
Youngstown Plastic Tooling | Youngstown, OH.
Z & Z Machine Products Inc | Racine, WI.
Z M D Mold & Die Inc | Mentor, OH.
Zip Tool & Die Co., Inc | Cleveland, OH.
Zircon Precision Products, Inc | Tempe, AZ.
Zuelzke Tool & Engineering | Milwaukee, WI

[FR Doc. 01-10646 Filed 4-27-01; 8:45 am]

BILLING CODE 3510-DR-P